DEPARTMENT OF HOUSING AND URBAN DEVELOPMENT

[Docket No. FR-5693-N-02]

Implementation of the Privacy Act of 1974, as Amended; Republication to Delete and Update Privacy Act System of Records Notifications

AGENCY: Office of the Chief Information Officer, HUD.

ACTION: Notice Republications.

SUMMARY: Pursuant to the Privacy Act of 1974 (U.S.C. 552a(e)(4)), as amended, and Office of Management and Budget (OMB), Circular No. A-130, notice is hereby given that the Department of Housing and Urban Development (HUD), Office of the Chief Information Officer (OCIO) republishes in the Federal Register, after a comprehensive review, actions for 27 of its program component systems of records. The revisions implemented under this republication are corrective and administrative changes that refine previously published details for each system of records in a clear and cohesive format. This republication does not meet the threshold criteria established by the Office of Management and Budget (OMB) for a modified system of records report. A more detail descriptions of the present systems are republished under this notice. This notice supersedes the previously published notices.

DATES: Effective Date: All revisions included in this republication are complete and accurate as of December 14, 2012.

FOR FURTHER INFORMATION CONTACT: Donna Robinson-Staton, Chief Privacy Officer, 451 Seventh Street SW., Washington, DC 20410 (Attention: Capitol View Building, 4th Floor), telephone number: (202) 402-8073. [The above telephone number is not a toll free numbers.] A telecommunications device for hearing- and speech-impaired persons (TTY) is available by calling the Federal Information Relay Service's toll-free telephone number (800) 877-8339.

SUPPLEMENTARY INFORMATION:

Republication To Delete and Update Privacy Act Systems of Records

Subsequent reviews for 27 systems of records resulted in an update to 17 systems of records and deletion of 10 systems of records. Final analysis concluded with implementing new coding schemes for each systems of records; in an effort to streamline and present each system of records in a coding structure that easily differentiate program specific systems of records. These notices were last published in the Federal Register under separate citations. The Federal Register publications and citations associated with each notice can be viewed by going to the Department's Privacy Web site.¹

¹ http://portal.hud.gov/hudportal/HUD?src=/program_offices/cio/privacy/pia/fednotice/SORNs_LoB

Deleted Systems—The 10 systems deleted by this republication, and their existing coding structure are listed as follows:

1. HUD/CPD-1 Rehabilitation Loans Delinquent/Default (Authority Delegated)

2. HUD/DEPT-15 Equal Opportunity Housing Complaints (Data Migrated)

3. HUD/DEPT-29 Rehabilitation Grants and Loans Files (Authority Delegated)

4. HUD/DEPT-42 Rent Subsidy Program Files (Revoked)

5. HUD/H-8 Integrated Disbursement and Information System (Revoked)

6. HUD/H-14 Interstate Land Sales Registration (Authority Delegated)

7. HUD/PIH-07 Disaster Information System (Data Migrated)

8. HUD/OIG-3 Name Indices System (Revoked)

9. HUD/REAC-1 Tenant Eligibility Verification Files (Revoked)

10. HUD/REAC-3 Quality Assurance/Quality Control Administrative Files (Revoked)

Updated Systems—This following notices supersede the previously published notices. The 17 systems modified by this republication and their new coding structure is listed as follows:

1. CFO/FY.01 HUD Central Accounting and Program System (Previously HUD/CFO-01)

2. CFO/FY.02 Audit Resolution and Corrective Action Tracking System (Previously HUD/CFO-02)

3. CFO/FY.03 Line of Credit Control Systems (Previously HUD/CFO-03)

4. CFO/FY.04 Integrated Automated Travel System (Previously HUD/CFO-04)

5. CFO/FY.05 Personal Services Cost Subsystem (Previously HUD/CFO-05)

6. CFO/FY.06 Financial Data Mart (Previously HUD/CFO-03)

7. CPD/DGHR.01 Relocation Assistance Files (Previously HUD/CPD-44)

8. FHEO/EGID.01 Title Eight Automated Paperless Office Tracking System (Previously HUD/FHEO-06)

9. ODEEO/U.01 Equal Employment Opportunity Management Information System (Previously ODEEO-1)

10. OIG/GA.01 Independent Auditor Monitoring Files of the Office of Inspector (HUD/OIG-03)

11. OIG/GAP.01 Auto Audit of the Office of Inspector General (HUD/OIG-05)

12. OIG/GFB.01 Hotline Information Sub System (Previously HUD/OIG-2)

13. OIG/GIP.01 Investigative Files of the Office of Inspector General (Previously HUD/OIG-1)

14. OIG/GIP.02 Auto Investigation and Case Management Information Subsystem (Previously HUD/OIG-6)

15. PD&R/RPT.09 HUD USER File for Research Products, Services and Publications (Previously PD&R-9)

16. REAC/PE.01 Tracking-at-a-Glance® (Previously HUD/PIH-06)

17. REAC/PE.02 Efforts to Outcome Case Management Tracking System for DHAP-Ike (Previously HUD/PIH-08)

These systems are those maintained by HUD that includes personally identifiable information provided by individuals from which information is retrieved by a name of unique identifier. The system revisions encompass a wider range of programs and services in order to provide notification of a comprehensive view of the Department's data collection and management practices. Under this republication, the Department proposes to update 17 Privacy Act systems of records, delete 10 obsolete systems of records, and implement a new coding structure for it systems of records.

This republication allows HUD to organize and re-publish up-to-date information for these systems of records in a more useful format. The system modifications and deletions incorporate Federal privacy requirements, and HUD policy requirements. The Privacy Act provides certain safeguards for an individual against and invasion of personal privacy by requiring Federal agencies to protect records contained in an agency system of records from unauthorized disclosure, ensure that information is current for its intended use, and that adequate safeguards are provided to prevent misuse of such information. Additionally, the updates reflect the Department's focus on industry best practices in protecting the personal privacy of the individuals covered by each system notification. This notice for each system of records state the name and location of the record system, the authority for and manner of it operations, the categories of individuals that it covers, the type of records that it contain, the sources of the information for those records, the routines uses of each systems of records, and the system of records exemption types. In addition, each notice include the business address of the HUD officials who will inform interested persons of the procedures whereby they may gain access to and/or request amendments to records pertaining to them. The routine uses that apply to this publication are reiterated based on past publication to clearly communicate the ways in which HUD continues to conducts some of its business practices.

Since the republication of system of records notices does not meet the threshold requirements for new or amended system a report was not submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Prefatory Statement of General Routine Uses

The following routine uses apply to each system of records notice set forth below under case specific circumstances. The Privacy Act allows HUD to disclose its Privacy Act records in the following manner to appropriate agencies, entities, and persons below to the extent such disclosures are compatible with the purpose for which the record was collected, as set forth in the attached system of records notifications, provided that no routine use specified herein shall be construed to limit or waive any other routine use or exemption specified either herein or in the text of the individual system of records notice. In addition to providing that approval is obtained from the system manager, only after satisfactory justification has been provided to the system manager, records may be disclosed as follows:

1. To a recipient who has provided the agency with advance adequate written assurance that the record will be used solely as a statistical research or reporting record, and the record is to be transferred in a form that is not individually identifiable.

2. To the National Archives and Records Administration (NARA) and the General Services Administration (GSA) for records having sufficient historical or other value to warrant its continued preservation by the United States Government, or for inspection under authority of Title 44, Chapter 29, of the United States.

3. To a congressional office from the record of an individual in response to an inquiry from the congressional office made at the request of that individual.

4. To appropriate Federal, state, local government, or person pursuant to a showing of compelling circumstances affecting the health or safety or vital interest of an individual or data subject, including assisting such agency(ies) or organizations in preventing the exposure to or transmission of a communicable or quarantinable disease or to combat other significant public health threats; if upon such disclosure appropriate notice is transmitted to the last known address of such individual identify the health threat or risk.

5. To a consumer reporting agency, when trying to collect a claim of the Government, in accordance with 31 U.S.C. 3711(e).

6. To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and c) the disclosure made to such agencies, entities, and persons is reasonably necessary to assist in connection with HUD's efforts to respond to the suspected or confirmed compromise and prevent, minimize, or remedy such harm for purposes of facilitating responses and remediation efforts in the event of a data breach.

Case Specific Actions, In addition to the disclosures permitted under subsection (b) of the Privacy Act, HUD may disclose information contained in this system of records without the consent of the subject individual if the disclosure is compatible with the purpose for which the record was collected under the following routine uses provided that approval is obtained from the system manager only after satisfactory justification has been provided to the system manager: HUD may disclosure records compatible to one of its system of records notices during case specific circumstances, when appropriate, as follows:

7. To appropriate Federal, state, local, tribal, or governmental agencies or multilateral governmental organizations responsible for investigating or prosecuting the violations of, or for enforcing or implementing, a statute, rule, regulation, order, or license, where HUD determines that the information would assist in the enforcement of civil or criminal laws.

8. To third parties during the course of a law enforcement investigation to the extent necessary to obtain information pertinent to the investigation, provided disclosure is appropriate to the proper performance of the official duties of the officer making the disclosure.

9. To a court, magistrate, or administrative tribunal in the course of presenting evidence, including disclosures to opposing counsel or witnesses in the course of civil discovery, litigation, or settlement negotiations or in connection with criminal law proceedings or in response to a subpoena or to a prosecution request when such records to be released are specifically approved by a court provided order.

10. To appropriate Federal, state, local, tribal, or governmental agencies or multilateral governmental organizations responsible for investigating or prosecuting the violations of, or for enforcing or implementing, a statute, rule, regulation, order, or license, where HUD determines that the information would assist in the enforcement of civil or criminal laws.

11. To third parties during the course of a law enforcement investigation to the extent necessary to obtain information pertinent to the investigation, provided disclosure is appropriate to the proper performance of the official duties of the officer making the disclosure.

12. To the Department of Justice (DOJ) when seeking legal advice for a HUD initiative or in response to DOJ's request for the information, after either HUD or DOJ determine that such information is relevant to DOJ's representatives of the United States or any other components in legal proceedings before a court or adjudicative body, provided that, in each case, the agency also determines prior to disclosure that disclosure of the records to the DOJ is a use of the information contained in the records that is compatible with the purpose for which HUD collected the records. HUD on its own may disclose records in this system of records in legal proceeding before a court or administrative body after determining that the disclosure of the records to the court of administrative body is a use of the information contained in the records that is compatible with the purpose for which HUD collected the records.

13. To another agency or to an instrumentality of any governmental jurisdiction within or under the control of the United States for a civil or criminal law enforcement activity if the activity is authorized by law, and if the head of the agency or instrumentality has made a written request to the agency which maintains the record specifying the particular portion desired and the law enforcement activity for which the record is sought.

14. To contractors, grantees, experts, consultants, Federal agencies, and non-Federal entities including but not limited to state and local governments, with whom HUD has a contract, service agreement, grant, cooperative agreement with the Department of Housing and Urban Development for statistical analysis to advance the goals of the nation's federal strategic plan to prevent and end veterans homelessness. The records may not be used to make decisions concerning the rights, benefits, or privileges of specific individuals, or providers of services with respect to homeless veteran's efforts.

15. To HUD-paid experts or consultants, and those under contract with HUD on a “need-to-know” basis for a purpose within the scope of the pertinent HUD task related to these systems of records. This access will be granted to an HUD-paid expert, or consultants of contractor and their employees by a system manager only after satisfactory justification has been provided to the system manager. Access shall be restricted and limited to only those data elements and disclosures considered relevant to accomplishing an agency function.

16. To other Federal agencies or non-Federal entities with whom HUD has an approved computer matching effort, limited to only those data elements considered relevant to determine eligibility under a particular benefit programs administered by those agencies or entities or by HUD or any component thereof, to improve program integrity, and to collect debts and other monies owed under those programs.

17. To contractors, experts, consultants with whom HUD has a contract, service agreement or other assignment of the Department, when necessary to utilize relevant data for purposes of testing new technology and systems designed to enhance program operations and performance.

18. To contractors, grantees, experts, consultants, Federal agencies, and non-Federal entities including but not limited to state and local governments, and other research institutions or their parties entities and their agents with whom HUD has a contract, service agreement, grant, cooperative agreement with HUD, when necessary to accomplish an agency function related to a system of records for the purposes of statistical analysis and research in support of program operations, management, performance monitoring, evaluation, risk management, and policy development, or to otherwise support the Department's mission. Records under this routine use may not be used in whole or in part to make decisions that affect the rights, benefits or privileges of specific individuals. The results of the matched information may not be disclosed in identifiable form.

19. To other Federal agencies or non-Federal entities, including but not limited to state and local government entities with whom HUD has a contract, service agreement, grant, cooperative agreement, or computer matching agreement to assist such agencies with preventing and detecting improper payments, or fraud, or abuse in major programs administered by the Federal government, or abuse by individuals in their operations and programs, but only to the extent that the information is necessary and relevant to preventing improper payments for services rendered under a particular Federal or non-federal benefits programs of HUD or any of their components to verify pre-award and pre-payment requirements prior to the release of Federal Funds.

Authority: 5 U.S.C. 552a; 88 Stat. 1896; 42 U.S.C. 3535(d).

Dated: January 25, 2013.
Kevin R. Cooke,
Deputy Chief Information Officer.

The Department republishes the following systems of records updates.

SYSTEM OF RECORDS NO:

CFO/FY.01

SYSTEM NAME:

HUD Central Accounting and Program System (HUDCAPS, A75).

SYSTEM LOCATION:

HUD Headquarters, Washington, DC 20410 and Hewlett-Packard Data Center, South Charleston, WV 25303.

CATEGORIES OF INDIVIDUALS COVERED BY THE SYSTEM:

Grant, subsidy, project, and loan recipients; HUD personnel; vendors; brokers; bidders; managers; individuals within Disaster Assistance Programs: Builders, developers, contractors, and appraisers; subjects of audits.

CATEGORIES OF RECORDS IN THE SYSTEM:

The system contains the following employee/vendor (non-employee) information: Name, social security number, address, and financial data. Also included are funds control records, accounts receivable records, purchase order and contract records, travel records including orders, vouchers, and advances, payment voucher records, deposit and receipt records, disbursement and cancelled check records, and financial records.

AUTHORITY FOR MAINTENANCE OF THE SYSTEM:

Sec. 113 of the Budget and Accounting Act of 1950 31 U.S.C. 66a. (Pub. L. 81-784); Chief Financial Officers Act of 1990; Federal Financial Management Improvement Act of 1996; Housing and Community Development Act of 1987, 42 U.S.C. 3543 authorizes HUD to collect the SSN.

PURPOSE(S):

These records are an integral part of HUDCAPS, which provides an integrated general ledger and core accounting for the Department's grant, subsidy, and loan programs. The general ledger posts and maintains account balances for all financial transactions recorded in the subsidiary systems. HUDCAPS performs core accounting functions, which includes but is not limited to keeping track of all payments to individuals, supporting and documenting expenses incurred in the performance of official agency duties, accounting for goods and services received, accounting for funds paid and received, and processing travel authorizations and claims.

ROUTINE USES OF RECORDS MAINTAINED IN THE SYSTEM, INCLUDING CATEGORIES OF USERS AND THE PURPOSES OF SUCH USES:

In addition to those disclosures generally permitted under 5 U.S.C. 552a(b) of the Privacy Act, HUD may disclose information contained in this system of records without the consent of the subject individual if the disclosure is compatible with the purpose for which the record was collected under the following routine uses:

1. To U.S. Treasury—for transactions such as disbursements of funds and related adjustments;

2. To Internal Revenue Service—for reporting payments for goods and services and for reporting of discharge indebtedness;

3. To any other Federal agency including, but not limited to the Internal Revenue Service (IRS) pursuant to 31 U.S.C. 3720A, for the purpose of effecting an administrative offset against the debtor for a delinquent debt owed to the U.S. Government by the debtor;

4. To Federal Agencies—for the purpose of debt collection to comply with statutory reporting requirements;

5. To the General Service Administration's Federal Procurement Data System, a central repository for statistical information on Government contracting, for purposes of providing public access to Government-wide data about agency contract actions;

6. To consumer reporting agencies: Disclosures pursuant to 5 U.S.C. 552a(b)(12). Disclosures may be made from the system to consumer reporting agencies as defined in the Fair Credit Reporting Act (15 U.S.C. 1681a(f) or the Federal Claims Collection Act of 1966, 31 U.S.C. 3701(a)(3)). The disclosure is limited to information necessary to establish the identity of the individual, including name, social security number, and address; the amount, status, and history of the claim, and the agency or program under which the claim arose for the sole purpose of allowing the consumer reporting agency to prepare a credit report.

POLICIES AND PRACTICES FOR STORING, RETRIEVING, ACCESSING, RETAINING, AND DISPOSING OF RECORDS IN THE SYSTEM:

STORAGE:

Electronic files are stored on magnetic tape/disc/drum. There are no paper records that are maintained for this system.

RETRIEVABILITY:

Records are retrieved by name, social security number, schedule number, receipt number, voucher number, and contract number.

SAFEGUARDS EMPLOYED:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

RETENTION AND DISPOSAL:

The electronic records are maintained indefinitely and destroyed in accordance with schedule 20 of the National Archives and Records Administration General Records Schedule as specified in HUD Handbook 2225.6 Records Disposition Schedule Appendix 14, HUD Handbook 2228.1 Records Disposition Schedule Management Chapter 9, and HUD Handbook 2228.2 General Records.

SYSTEM MANAGER(S) AND ADDRESS:

Assistant Chief Financial Officer for Systems, Office of the Chief Financial Officer, Department of Housing and Urban Development, 451 Seventh Street SW., Room 3100, Washington, DC 20410.

NOTIFICATION AND RECORD ACCESS PROCEDURES:

For information, assistance, or inquiry about the existence of records, contact the Privacy Act Officer, Department of Housing and Urban Development, 451 Seventh Street, SW., Room 4178, Washington, DC 20410. (Attention: Capitol View Building, 4th Floor). Provide verification of your identity by providing two proofs of official identification. Your verification of identity must include your original signature and must be notarized. The Department's rules for providing access to records to the individual concerned appear in 24 CFR part 16.

CONTESTING RECORD PROCEDURES:

The procedures for requesting amendment or correction of records appear in 24 CFR part 16. If additional information is needed, contact:

(i) In relation to contesting contents of records, the Privacy Act Officer at HUD, 451 Seventh Street, SW., Room 4178 (Attention: Capitol View Building, 4th Floor), DC 20410;

(ii) In relation to appeals of initial denials, HUD, Departmental Privacy Appeals Officer, Office of General Counsel, 451 Seventh Street, SW., Washington, DC 20410.

RECORD SOURCE CATEGORIES:

These records contain information obtained from the individual who is the subject of these records, current and former HUD employees seeking reimbursement from HUD for travel expenses personally incurred financial institutions, private corporations or other business partners, and Federal agencies.

EXEMPTIONS FROM CERTAIN PROVISIONS OF THE ACT:

None

SYSTEM OF RECORDS NO.:

CFO/FY.02

SYSTEM NAME:

Audit Resolution and Corrective Action Tracking System (ARCATS, P136)

SYSTEM LOCATION:

HUD Headquarters, Washington, DC 20410 and South Charleston, WV 25303.

CATEGORIES OF INDIVIDUALS COVERED BY THE SYSTEM:

HUD Headquarters, Office of the Inspector General (OIG) and Field Office Personnel; subjects of audits.

CATEGORIES OF RECORDS IN THE SYSTEM:

This system contains the following client information: Name, social security number, date of birth, home address, home telephone number, personal email address, race/ethnicity, gender, marital status, spouse name, number of children, income/financial data, employment history, education level, medical history, and disability information.

AUTHORITY FOR MAINTENANCE OF THE SYSTEM:

Federal Managers Financial Integrity Act of 1982(Pub. L. 97-255, HR 1526); Sec. 113 of the Accounting and Auditing Act of 1950 (31 U.S.C. 66a). ARCATS has been designed to conform with the requirements of the Inspector General Act of 1978 as amended (5 USC APP. 3), Office of Management and Budget (OMB) Circular A-50 revised “Audit Follow-up” and OMB Circular A-133 “Audits of States, Local Governments, and Non-Profit Organizations.”

PURPOSE(s):

To provide an improved tool for management planning and oversight of corrective actions needed to address audit recommendations in a timely manner. ARCATS tracks HUD's audit resolution process.

ROUTINE USES ARE AS FOLLOWS:

In addition to those disclosures generally permitted under 5 U.S.C. 552a(b) of the Privacy Act, HUD may disclose information contained in this system of records without the consent of the subject individual in accordance with its discretionary disclosures, when such disclosure is compatible with the purpose for which the record was collected. Refer to this notice “Prefatory Statements of General Routine Uses” section for a description of these disclosures.

POLICIES AND PRACTICES FOR STORING, RETRIEVING, ACCESSING, RETAINING, AND DISPOSING OF RECORDS IN THE SYSTEM:

STORAGE:

Records are stored on electronic files or magnetic tape/disc/drum. Paper printouts or original input documents may be stored in locked file cabinets at HUD or as imaged documents on magnetic media.

RETRIEVABILITY:

Records are retrieved only by those who have the authority to view a specific document which may contain personally identifiable information. Lotus Notes security is based on roles and determines if a person is authorized to view a document.

SAFEGUARDS EMPLOYED:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

RETENTION AND DISPOSAL:

The electronic records are maintained indefinitely and destroyed in accordance with schedule 20 of the National Archives and Records Administration General Records Schedule. Other materials, including hard copy printouts derived from electronic records created on an ad hoc basis for reference purposes or to meet day-to-day business needs, are burned when the agency determines that they are no longer needed for administrative, legal, audit, or other operational purposes.

SYSTEM MANAGER(S) AND ADDRESS:

Assistant Chief Financial Officer for Systems, Office of the Chief Financial Officer, Department of Housing and Urban Development, 451 Seventh Street SW., Room 3100, Washington, DC 20410.

NOTIFICATION AND RECORD ACCESS PROCEDURES:

For information, assistance, or inquiry about the existence of records, contact the Privacy Act Officer, Department of Housing and Urban Development, 451 Seventh Street, SW., Room 4178, Washington, DC 20410 (Attention: Capitol View Building, 4th Floor). Provide verification of your identity by providing two proofs of official identification. Your verification of identity must include your original signature and must be notarized. The Department's rules for providing access to records to the individual concerned appear in 24 CFR part 16.

CONTESTING RECORD PROCEDURES:

The procedures for requesting amendment or correction of records appear in 24 CFR part 16. If additional information is needed, contact:

(i.) In relation to contesting contents of records, the Privacy Act Officer at HUD, 451 Seventh Street, SW., Room 4178 (Attention: Capitol View Building, 4th Floor), (202) 402-8073Washington, DC 20410;

(ii.) In relation to appeals of initial denials, HUD, Departmental Privacy Appeals Officer, Office of General Counsel, 451 Seventh Street, SW., Washington, DC 20410.

RECORD SOURCE CATEGORIES:

These records contain information obtained from the individual who is the subject of these records, the OIG, and HUD personnel who have access to Lotus Notes and have a specifically defined role in the system.

EXEMPTIONS FROM CERTAIN PROVISIONS OF THE ACT:

None

SYSTEM OF RECORD CO.:

CFO/FY.03

NAME:

Line of Credit Control Systems (LOCCS, A67).

SYSTEM LOCATION:

HUD Headquarters, Washington, DC 20410 and South Charleston, WV 25303. Refer to Appendix II for complete listing of addresses.

CATEGORIES OF INDIVIDUALS COVERED BY THE SYSTEM: Grantees, subsidy recipients, project recipients, commercial vendors, builders, developers, contractors, and appraisers.

CATEGORIES OF RECORDS IN THE SYSTEM:

This system contains the following employee/vendor information: name, social security number, bank routing number, and deposit account number. Also included are funds control records, receivable records, contract records, payment voucher records, deposit and receipt records, disbursement and cancelled check records, and subsidiary ledger records.

AUTHORITY FOR MAINTENANCE OF THE SYSTEM:

Sec. 113 of the Budget and Accounting Act of 1950 31 U.S.C. 66a. (Pub. L. 81-784). The Housing and Community Development Act of 1987, 42 U.S.C.3543 authorizes HUD to collect the SSN.

PURPOSE(s):

The purpose of the system of records is to process and make grant, loan, and subsidy disbursements. LOCCS ensures that payments are made in a timely manner thus achieving efficient cash management practices. Its function is to create accounting transactions with the appropriate accounting classification elements to correctly record disbursements and collections to the grant/project level subsidiary.

ROUTINE USES OF RECORDS MAINTAINED IN THE SYSTEM, INCLUDING CATEGORIES OF USERS AND THE PURPOSES OF SUCH USES: In addition to those disclosures generally permitted under 5 U.S.C. 552a(b) of the Privacy Act, HUD may disclose information contained in this system of records without the consent of the subject individual if the disclosure is compatible with the purpose for which the record was collected under the following routine uses:

1. To U.S. Treasury—for transactions such as disbursements of funds and related adjustments;

2. To Internal Revenue Service—for reporting payments for goods and services and for reporting of discharge indebtedness;

3. To consumer reporting agencies: Disclosures pursuant to 5 U.S.C. 552a(b)(12). Disclosures may be made from the system to consumer reporting agencies as defined in the Fair Credit Reporting Act (15 U.S.C. 1681a(f) or the Federal Claims Collection Act of 1966, 31 U.S.C. 3701(a)(3)). The disclosure is limited to information necessary to establish the identity of the individual, including name, social security number, and address; the amount, status, history of the claim, and the agency or program under which the claim arose for the sole purpose of allowing the consumer reporting agency to prepare a credit report.

POLICIES AND PRACTICES FOR STORING, RETRIEVING, ACCESSING, RETAINING, AND DISPOSING OF RECORDS IN THE SYSTEM:

STORAGE:

Electronic files are stored on servers. Paper printouts or original input documents are stored in locked file cabinets at HUD or as imaged documents on magnetic media.

RETRIEVABILITY:

Records are retrieved by name, social security number, schedule number, receipt number, voucher number, and contract number.

SAFEGUARDS EMPLOYED:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

RETENTION AND DISPOSAL:

The electronic records are maintained indefinitely and destroyed in accordance with schedule 20 of the National Archives and Records Administration General Records Schedule as specified in HUD Handbook 2225.6 Records Disposition Schedule Appendix 14, HUD Handbook 2228.1 Records Disposition Schedule Management Chapter 9, and HUD Handbook 2228.2 General Records. Other materials, including hard copy printouts derived from electronic records created on an ad hoc basis for reference purposes or to meet day-to-day business needs, are burned when the agency determines that they are no longer needed for administrative, legal, audit, or other operational purposes.

SYSTEM MANAGER(S) AND ADDRESS:

Assistant Chief Financial Officer for Systems, Office of the Chief Financial Officer, Department of Housing and Urban Development, 451 Seventh Street SW., Room 3100, Washington, DC 20410.

NOTIFICATION AND RECORD ACCESS PROCEDURES:

For information, assistance, or inquiry about the existence of records, contact the Privacy Act Officer, Department of Housing and Urban Development, 451 Seventh Street, SW., Room 4178, Washington, DC 20410 (Attention: Capitol View Building, 4th Floor). Provide verification of your identity by providing two proofs of official identification. Your verification of identity must include your original signature and must be notarized. The Department's rules for providing access to records to the individual concerned appear in 24 CFR part 16.

CONTESTING RECORD PROCEDURES:

The procedures for requesting amendment or correction of records appear in 24 CFR part 16. If additional information is needed, contact:

(i) In relation to contesting contents of records, the Privacy Act Officer at HUD, 451 Seventh Street, SW., Room 4178 (Attention: Capitol View Building, 4th Floor), Washington, DC 20410;

(ii) In relation to appeals of initial denials, HUD, Departmental Privacy Appeals Officer, Office of General Counsel, 451 Seventh Street SW., Washington, DC 20410.

RECORD SOURCE CATEGORIES:

These records contain information obtained from the individual who is the subject of these records, current and former HUD personnel, financial institutions, private corporations or business partners, and Federal agencies.

EXEMPTIONS FROM CERTAIN PROVISIONS OF THE ACT:

None.

SYSTEM OF RECORDS NO.:

CFO/FY.04

NAME:

Integrated Automated Travel System (IATS, H18).

SYSTEM LOCATION:

CFO Accounting Center in Fort Worth, Texas 76102.

CATEGORIES OF INDIVIDUALS COVERED BY THE SYSTEM:

HUD relocating employees, HUD System Administrators, HUD System Examiners.

CATEGORIES OF RECORDS IN THE SYSTEM:

This system contains the following employee information: name (as it appears on government-issued driver's license or passport), social security number, home address, marital status, spouse name, and number of children. The records in this system include: vendor ID or other unique 9-digit numbers, disbursements, travel authorizations (origin and destination of relocation, authorized entitlements, dependent's names and dates of birth), and payments made to individual (amount approved, taxes deducted, amount paid to employee, date of payment).

AUTHORITY FOR MAINTENANCE OF THE SYSTEM:

Sec. 113 of the Budget and Accounting Act of 1950 31 U.S.C. 66a. (Pub. L. 81-784); 31 USC 3511, 3512 and 3523; 5 U.S.C. Chapter 57. The personally identifiable information associated with IATS is needed to compute entitlements based on 41CFR Chapter 302. These entitlements are considered to be taxable by IRS; W-2's must be prepared and mailed to employees at year end. The Housing and Community Development Act of 1987, 42 U.S.C.3543 authorizes HUD to collect the SSN.

PURPOSE(s):

The purpose of the system of records is to plan, authorize, arrange, process and manage official HUD relocation, to maintain records on current HUD employees who are relocating to another office location within HUD and have been approved for relocation entitlements, and to record relocation disbursements in order to compute and record taxes and W-2s.

ROUTINE USES OF RECORDS MAINTAINED IN THE SYSTEM, INCLUDING CATEGORIES OF USERS AND THE PURPOSES OF SUCH USES.

In addition to those disclosures generally permitted under 5 U.S.C. 552a(b) of the Privacy Act, HUD may disclose information contained in this system of records without the consent of the subject individual if the disclosure is compatible with the purpose for which the record was collected under the following routine uses:

1. To IRS and the SSA to generate quarterly 941's and annual W-2's to fulfill its statutory reporting of wage and income reporting requirements to IRS and SSA.

2. To GSA in the form of invoices to enable the GSA to perform post audit of the invoices paid by HUD directly to the Household Good Shippers.

3. To an authorized appeal or grievance examiner, formal complaints examiner, equal employment opportunity investigator, arbitrator, or other duly authorized official engaged in investigation or settlement of a grievance, complaint, or appeal filed by an employee to whom the information pertains. If HUD denies claims, HUD employees can appeal to the GSA Civilian Board of Contract Appeals.

4. To Officials of labor organizations recognized under 5 U.S.C. Chapter 71 when relevant and necessary to their duties of exclusive representation concerning personnel policies, practices, and matters affecting working conditions.

5. To a travel services provider for billing and refund purposes.

6. To a carrier or an insurer for settlement of an employee claim for loss of or damage to personal property incident to service under 31 U.S.C. 3721, or to a party involved in a tort claim against the Federal government resulting from an accident involving a traveler.

POLICIES AND PRACTICES FOR STORING, RETRIEVING, ACCESSING, RETAINING, AND DISPOSING OF RECORDS IN THE SYSTEM:

STORAGE:

Each individual relocatee has a folder with hard copies of these documents which are stored in secure cabinets in the file room under lock and key within the Travel and Relocation Branch Office in Fort Worth, Texas. Electronic files are supported by the HITS contract on a server physically located in Charleston, WV.

RETRIEVABILITY:

Records are retrieved by name and social security number.

SAFEGUARDS EMPLOYED:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

RETENTION AND DISPOSAL:

The electronic records are maintained indefinitely and destroyed in accordance with schedule 20 of the National Archives and Records Administration General Records Schedule as specified in HUD Handbook 2225.6 Records Disposition Schedule Appendix 14, HUD Handbook 2228.1 Records Disposition Schedule Management Chapter 9, and HUD Handbook 2228.2 General Records. Other materials, including hard copy printouts derived from electronic records created on an ad hoc basis for reference purposes or to meet day-to-day business needs, are burned when the agency determines that they are no longer needed for administrative, legal, audit, or other operational purposes.

SYSTEM MANAGER(S) AND ADDRESS:

Assistant Chief Financial Officer for Systems, Office of the Chief Financial Officer, Department of Housing and Urban Development, 451 Seventh Street SW., Room 3100, Washington, DC 20410.

NOTIFICATION AND RECORD ACCESS PROCEDURES:

For information, assistance, or inquiry about the existence of records, contact the Privacy Act Officer, Department of Housing and Urban Development, 451 Seventh Street SW., Room 4178, Washington, DC 20410. (Attention: Capitol View Building, 4th Floor). Provide verification of your identity by providing two proofs of official identification. Your verification of identity must include your original signature and must be notarized. The Department's rules for providing access to records to the individual concerned appear in 24 CFR part 16.

CONTESTING RECORD PROCEDURES:

The procedures for requesting amendment or correction of records appear in 24 CFR part 16. If additional information is needed, contact:

1. In relation to contesting contents of records, the Privacy Act Officer at HUD, 451 Seventh Street SW., Room 4178 (Attention: Capitol View Building, 4th Floor), Washington, DC 20410;

2. In relation to appeals of initial denials, HUD, Departmental Privacy Appeals Officer, Office of General Counsel, 451 Seventh Street SW., Washington, DC 20410.

RECORD SOURCE CATEGORIES:

These records contain information obtained from the individual who is the subject of these records, the documents created from this information to facilitate the relocation, household goods carriers, and document information from HUDCAPS.

EXEMPTIONS FROM CERTAIN PROVISIONS OF THE ACT:

None.

SYSTEM OF RECORDS CO.:

CFO/FY.05

SYSTEM NAME:

Personal Services Cost Subsystem (PSCS, A75I).

SYSTEM LOCATION:

HUD Headquarters in Washington, DC 20410.

CATEGORIES OF INDIVIDUALS COVERED BY THE SYSTEM:

Current and former HUD employees.

CATEGORIES OF RECORDS IN THE SYSTEM:

This system contains the following employee information: name, social security number, and payroll costs. Also included are HUD organizational code, pay rate, grade, pay and leave records, health benefits, debts owed to the government as a result of overpayment, refunds owed, and time and attendance records.

AUTHORITY FOR MAINTENANCE OF THE SYSTEM:

Sec. 113 of the Budget and Accounting Act of 1950 31 U.S.C. 66a. (Pub. L. 81-784). Public Law 97-255, Financial Integrity Act, 31 U.S.C. 3512, authorizes the Department of Housing and Urban Development (HUD) to collect all the information that will be used by HUD to protect data from fraudulent actions. The Housing and Community Development Act of 1987, 42 U.S.C.3543 authorizes HUD to collect the SSN.

PURPOSE(s):

To obtain payroll costs from NFC, a bureau of the Department of Agriculture. Additionally, PSCS converts the NFC codes to HUD organizational codes and transits the converted codes and payroll costs to HUD's Central Accounting and Program System (HUDCAPS) for accounting of the payroll. PSCS is necessary since it sends HUD's payroll costs to HUDCAPS and impacts HUD's financial reporting to the Office of Management and Budget (OMB). There is no public access to this system. This is for internal use only. The system has 8 users with update privileges.

ROUTINE USES OF RECORDS MAINTAINED IN THE SYSTEM, INCLUDING CATEGORIES OF USERS AND THE PURPOSES OF SUCH USES:

In addition to those disclosures generally permitted under 5 U.S.C. 552a(b) of the Privacy Act, HUD may disclose information contained in this system of records without the consent of the subject individual in accordance with its discretionary disclosures, when such disclosure is compatible with the purpose for which the record was collected. Refer to this notice “Prefatory Statements of General Routine Uses” section for a description of these disclosures.

POLICIES AND PRACTICES FOR STORING, RETRIEVING, ACCESSING, RETAINING, AND DISPOSING OF RECORDS IN THE SYSTEM:

STORAGE:

Electronic files are stored on servers. There are no paper records that are maintained for this system.

RETRIEVABILITY:

Records are retrieved by name, social security number, and HUD organizational code.

SAFEGUARDS EMPLOYED:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

RETENTION AND DISPOSAL:

The electronic records are maintained indefinitely and destroyed in accordance with schedule 20 of the National Archives and Records Administration General Records Schedule as specified in HUD Handbook 2225.6 Records Disposition Schedule Appendix 14, HUD Handbook 2228.1 Records Disposition Schedule Management Chapter 9, and HUD Handbook 2228.2 General Records.

SYSTEM MANAGER(S) AND ADDRESS:

Assistant Chief Financial Officer for Systems, Office of the Chief Financial Officer, Department of Housing and Urban Development, 451 Seventh Street SW., Room 3100, Washington, DC 20410.

NOTIFICATION AND RECORD ACCESS PROCEDURES:

For information, assistance, or inquiry about the existence of records, contact the Privacy Act Officer, Department of Housing and Urban Development, 451 Seventh Street SW., Room 4178, Washington, DC 20410. (Attention: Capitol View Building, 4th Floor). Provide verification of your identity by providing two proofs of official identification. Your verification of identity must include your original signature and must be notarized. The Department's rules for providing access to records to the individual concerned appear in 24 CFR part 16.

CONTESTING RECORD PROCEDURES:

The procedures for requesting amendment or correction of records appear in 24 CFR part 16. If additional information is needed, contact:

(i) In relation to contesting contents of records, the Privacy Act Officer at HUD, 451 Seventh Street SW., Room 4178 (Attention: Capitol View Building, 4th Floor), Washington, DC 20410;

(ii) In relation to appeals of initial denials, HUD, Departmental Privacy Appeals Officer, Office of General Counsel, 451 Seventh Street SW., Washington, DC 20410.

RECORD SOURCE CATEGORIES:

These records contain information obtained from official personnel records of employees.

EXEMPTIONS FROM CERTAIN PROVISIONS OF THE ACT: None

SYSTEM OF RECORD CO.:

CFO/FY.06

SYSTEM NAME:

Financial Data Mart (FDM, A75R).

SYSTEM LOCATION:

HUD Headquarters, Washington, DC 20410 and Hewlett-Packard Data Center, South Charleston, WV 25303.

CATEGORIES OF INDIVIDUALS COVERED BY THE SYSTEM:

Grant, subsidy, project, and loan recipients; HUD personnel; vendors; brokers; bidders; managers; individuals within Disaster Assistance Programs: builders, developers, contractors, and appraisers; subjects of audits.

CATEGORIES OF RECORDS IN THE SYSTEM:

The system contains the following employee/vendor (non-employee) information: name, social security number, address, and financial data. Also included are funds control records, accounts receivable records, purchase order and contract records, travel records including orders, vouchers, and advances, payment voucher records, deposit and receipt records, disbursement and cancelled check records, and financial records.

AUTHORITY FOR MAINTENANCE OF THE SYSTEM:

Sec. 113 of the Budget and Accounting Act of 1950 31 U.S.C. 66a. (Pub. L. 81-784); Chief Financial Officers Act of 1990; The Housing and Community Development Act of 1987, 42 U.S.C.3543 authorizes HUD to collect the SSN.

PURPOSE(s):

To allow the Department decision makers to view financial data in desired report format. Financial Data Mart (FDM) is a warehouse of data extracted from a variety of the Department's financial systems and supported by a number of query tools for the purpose of improved financial and program data reporting. FDM is the primary reporting tool used to generate internal ad-hoc reports, scheduled event driven reports, and queries. This system supports program area managers, budget officers, and management staff by providing centralized, uniform financial information, event driven reports, and an ad-hoc financial analysis tool.

ROUTINE USES OF RECORDS MAINTAINED IN THE SYSTEM, INCLUDING CATEGORIES OF USERS AND THE PURPOSES OF SUCH USES:

In addition to those disclosures generally permitted under 5 U.S.C. 552a(b) of the Privacy Act, HUD may disclose information contained in this system of records without the consent of the subject individual in accordance with its discretionary disclosures, when such disclosure is compatible with the purpose for which the record was collected. Refer to this notice “Prefatory Statements of General Routine Uses” section for a description of these disclosures.

POLICIES AND PRACTICES FOR STORING, RETRIEVING, ACCESSING, RETAINING, AND DISPOSING OF RECORDS IN THE SYSTEM:

STORAGE:

Electronic files are stored on servers. There are no paper records that are maintained for this system.

RETRIEVABILITY:

Records are retrieved by name, social security number, home address, user-id, deposit account number, and bank routing number.

SAFEGUARDS EMPLOYED:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

RETENTION AND DISPOSAL:

The electronic records are maintained indefinitely and destroyed in accordance with schedule 20 of the National Archives and Records Administration General Records Schedule as specified in HUD Handbook 2225.6 Records Disposition Schedule Appendix 14, HUD Handbook 2228.1 Records Disposition Schedule Management Chapter 9, and HUD Handbook 2228.2 General Records.

SYSTEM MANAGER(S) AND ADDRESS:

Assistant Chief Financial Officer for Systems, Office of the Chief Financial Officer, Department of Housing and Urban Development, 451 Seventh Street SW., Room 3100, Washington, DC 20410.

NOTIFICATION AND RECORD ACCESS PROCEDURES:

For information, assistance, or inquiry about the existence of records, contact the Privacy Act Officer, Department of Housing and Urban Development, 451 Seventh Street, SW., Room 4178, Washington, DC 20410. (Attention: Capitol View Building, 4th Floor). Provide verification of your identity by providing two proofs of official identification. Your verification of identity must include your original signature and must be notarized. The Department's rules for providing access to records to the individual concerned appear in 24 CFR part 16.

CONTESTING RECORD PROCEDURES:

The procedures for requesting amendment or correction of records appear in 24 CFR part 16. If additional information is needed, contact:

(i.) In relation to contesting contents of records, the Privacy Act Officer at HUD, 451 Seventh Street, SW., Room 4178 (Attention: Capitol View Building, 4th Floor), Washington, DC 20410;

(ii) In relation to appeals of initial denials, HUD, Departmental Privacy Appeals Officer, Office of General Counsel, 451 Seventh Street, SW., Washington, DC 20410.

RECORD SOURCE CATEGORIES:

These records contain information obtained from the individual who is the subject of these records and Federal agencies.

EXEMPTIONS FROM CERTAIN PROVISIONS OF THE ACT:

None

SYSTEM OF RECORD NO.:

FHEO/EGID.01

SYSTEM NAME:

Title Eight Automated Paperless Office Tracking System (TEAPOTs)

SYSTEM LOCATIONS:

Electronic Records reside on HUD Network servers. Location is 2020 Union Carbide Drive South Charleston West Virginia 25303-2734. The Paper Records are located at the office where the investigation originated and may also be transferred to associated area and/or Regional Offices, or the Headquarters Office. In addition to HUD's headquarters building located at 451 Seventh Street SW., Washington, DC 20715, HUD also operates Regional and Field Offices locations where TEAPOTs Privacy Act records may in some cases be maintained or accessed, including: Baltimore MD; Boston, MA; Pittsburgh, PA; Hartford, CT; Richmond, VA; New York, NY; Newark, NJ; Atlanta, GA; Buffalo, NY; San Juan, Puerto Rico; Philadelphia, PA; Louisville, KY; Miami, FL; Birmingham, AL; Knoxville, TN; Greensboro, SC; Chicago, IL; Columbus, OH; Detroit, MI; Minneapolis, MN; Milwaukee, WI; Indianapolis, IN; Cleveland, OH; Jackson MS; Jacksonville, FL; Albuquerque, NM; Little Rock, AR; Houston, TX; Houston, TX; Kansas City, KS; St. Louis, MO; Omaha, NE; Denver, CO; Fort Worth, TX; New Orleans; Oklahoma City, OK; Honolulu, HI; Seattle, WA; San Francisco, CA; Los Angeles, CA; Portland, OR; Anchorage, AK. Refer to Appendix II for complete address listings.

AUTHORITY FOR MAINTENANCE OF THE SYSTEM:

Title VIII of the Civil Rights Act of 1968, as amended by the Fair Housing Act of 1988 (42 U.S.C. 3601 et seq.), Title VI of the Civil Rights Act of 1964 (42 U.S.C. Sections 2000d-2000d-7), Section 504 of the Rehabilitation Act of 1973 (29 U.S.C. 791 et seq.), Section 109 of Title I of the Housing and Community Development Act of 1974 (42 U.S.C. 5301-5321), Title II of the American Disabilities Act of 1990 (42 U.S.C. 12101 et seq.), Age Discrimination Act of 1975 (42 U.S.C. Sections 6101-107), Title IX of the Education Amendments Act of 1972(Title 20 U.S.C. Sections 1681-1688), and the Architectural Barriers Act of 1968 (42 U.S.C. 4151 et seq.).

PURPOSES:

FHEO TEAPOTS is the system that maintains case file data when further investigation is warranted, under a filed housing discrimination complaint. This is where the housing discrimination complaint inquiries and case files are documented and stored during the investigation process. Information on the complainants is collected on a case-by-case basis only if relevant to the particular case. The origination of a compliant begins with the origination of the HUD Form 903. The HUD Form 903 is used for filing discrimination complaints over unfair housing practices. This form is available in paper and on-line. The public may submit a HUD Form 903 (a housing discrimination complaint form) via the internet or by mail. HUD Form 903 collects initial potential case information for assessment and turns the information over to the appropriate regional office jurisdiction. Information gathered through the HUD Form 903 system opens an inquiry with FHEO that is explored through further discussion between FHEO staff and the complainant. These discussions gather additional data that establish jurisdiction and determine whether or not to launch an investigation. HUD's FHEO also use these records within TEAPOT's to monitor the quality of the investigations performed by authorized non-Federal agencies, and to determine the amount these agencies should be paid for performing the investigating. A paper case file that includes the information tracked in TEAPOTS, as well as additional information, is maintained outside of TEAPOTS.

CATEGORIES OF INDIVIDUALS COVERED BY THE SYSTEM:

All persons filing a housing discrimination complaint (known as Complainants) and their representatives; all persons and/or organizations identified by Complainants as having committed housing discrimination (known as Respondents) and their representatives; all those investigating and reviewing the housing discrimination complaint

CATEGORIES OF RECORDS IN THE SYSTEM:

All persons filing a housing discrimination complaint (known as Complainants) and their representatives; All persons and/or organizations identified by Complainants as having committed housing discrimination (known as Respondents) and their representatives; All those investigating and reviewing the housing discrimination complaint. Personal information which is generally maintained in TEAPOTS include: Name of Complainant, Respondent, Respondent Organization, Witnesses, and Complainant's or Respondent's Representative (if applicable); Home and work address of Complainant, Respondent Organization, and Representative; Contact number for Complainant, Respondent/Respondent Organization, Witnesses, and Representative. Because TEAPOTS is the fair housing complaints database, it normally maintains the following personal information of the Complainant, other aggrieved parties information, the Respondent, and/or witnesses based on the issues and bases of what is alleged in the complaint cases. Also included is race, national origin, disability (mental/physical); family status (pregnancy, families with children under 18); religion types of personal information, documents that may be maintained and found in TEAPOTS; Letters from physicians/medical records (in disability-based/reasonable accommodation claims); Rental lease agreements; Financial and loan information (in fair lending cases); Name, age/date of birth of minor children, and number of dependents (in family status cases, which includes families with children under the age of 18.)

ROUTINE USES OF RECORDS MAINTAINED IN THE SYSTEM, INCLUDING CATEGORIES OF USERS AND PURPOSES OF SUCH USES:

In addition to those disclosures generally permitted under 5 U.S.C. 552a(b) of the Privacy Act, HUD may disclose information contained in this system of records without the consent of the subject individual if the disclosure is compatible with the purpose for which the record was collected under the following routine uses:

1. To individuals under contract to HUD or under contract to another agency with funds provided by HUD for the purpose of conducting oversight and monitoring of program operations to determine compliance with applicable laws and regulations, and FHEO reporting requirements (individuals provided information under this routine use is subject to Privacy Act requirements and limitation on disclosures as are applicable to HUD officials and employees);

2. To State and local agencies Once certified by HUD to investigate and adjudicate Title VIII housing discrimination complaints, State and local agencies also use TEAPOTS to record investigation information;

3. To authorized requestors requesting release from records under the Freedom of Information Act (FOIA) and the Privacy Act request; and

POLICIES AND PRACTICES FOR STORING, RETRIEVING, SAFEGUARDING, AND DISPOSING OF SYSTEM RECORDS

STORAGE:

The data is stored on the TEAPOTS production server, and the reporting server. The data is backed up every night to tape and is stored at the National Archives and Record Administration on a CD for permanent storage, when applicable. Manual records are stored in lockable file cabinets.

RETRIEVABILITY:

Records are retrieved by file number, Complaint name, or respondent name.

SAFEGUARDS:

A User ID and password are required for authentication, Files Rules of Behavior form prior to being granted system access. These rules emphasize privacy protections of the personally identifiable information in TEAPOTS. Permission restrictions prevent unsolicited and illicit access to another region's data. Manual records are stored in lockable file cabinets; computer facilities are secured and accessible only by authorized personnel, and all files are stored in a secured area. Technical restraints are employed with regard to accessing the computer and data files.

RETENTION AND DISPOSAL:

The retention period for the information in TEAPOTs is maintained for the life of the case to support the activity and other enforcement activities that may become related to the case. When the life of the case is closed (the case is no longer needed for administrative or reference use, or to satisfy preservation requirements), and a final determination has been made of the case records, records in the system are maintained in accordance with the approved records schedule, HUD's Records and Disposition Schedule Handbook 2225.6, Appendix 50.² Historic or significant investigation files are PERMANENT, pending appraisal by NARA. Files Transfers are made to the National Archives and Records Administration every 5 years, when applicable (Including a listing of restricted data fields, which remain in place 30 years after which a final appraisal is conducted.

² http://portal.hud.gov/hudportal/documents/huddoc?id=22256x50ADMH.pdf

SYSTEM MANAGERS AND ADDRESSES:

Nina B. Aten, Director, Office of Information Services and Communications, Fair Housing and Equal Opportunity, Department of Housing and Urban Development, 451 Seventh Street, SW., Room 5118, Washington, DC 20410.

NOTIFICATION AND RECORD ACCESS PROCEDURES:

Individuals seeking to determine whether this system of records contains information about them, or those seeking access to such records, should address inquiries to Donna Robinson-Staton Chief Privacy Officer, Department of Housing and Urban Development, 451 Seventh Street SW., Washington, DC 20410 (Attention: Capitol View Building, 4th Floor). Provide verification of your identity by providing two proofs of identification. Your verification of identity must include your original signature and must be notarized.

CONTESTING RECORD PROCEDURES:

The Department's rules for contesting the contents of records and appealing initial denials, by the individual concerned, appear in 24 CFR Part 16. If additional information or assistance is needed, it may be obtained by contacting:

(i) CONTESTING CONTENTS OF RECORDS: Department of Housing and Urban Development, Chief Privacy Officer, 451 Seventh Street, SW., Washington, DC 20410 (Attention: Capitol View Building, 4th Floor);

(ii) APPEALS OF INITIAL HUD DETERMINATIONS: In relation to contesting contents of records, the HUD Departmental Privacy Appeals Officers, Office of General Counsel, Department of Housing and Urban Development, 451 Seventh Street SW., Washington, DC 20410.

RECORD SOURCE CATEGORIES:

Information is obtained from the record subject.

EXEMPTIONS FROM CERTAIN PROVISIONS OF THE ACT:

The records in TEAPOTs are maintained for use in civil rather than criminal actions and are prohibited from disclosure pursuant to exemption 5 U.S.C. 552a (d)(5) of the Privacy Act.

SYSTEM OF RECORDS NO.:

ODEEO/U.01

SYSTEM NAME:

Equal Employment Opportunity Management Information System (EEOMIS)

SYSTEM LOCATION:

Department of Housing and Urban Development, HUD 451 Seventh Street SW., Room 2112, Washington, DC 20410; the Washington National Records Center, 4205 Suitland Road, Suitland, MD 20746-8001; and MicroPact, 12901 Worldgate Drive, Suite 800, Herndon, VA 20170.

CATEGORIES OF INDIVIDUALS COVERED BY THE SYSTEM: Personal and employment related data items on each HUD employee, and information on EEO discrimination complaint processing covering both HUD employees and applicants for employment.

CATEGORIES OF RECORDS IN THE SYSTEM:

This system contains “selected” personal information on each employee, depending on the employee's type of appointment with the Department, including the employee's: Full Name, Unique Identifier (system generated), Address, Date of Birth, Race, Sex, Disability Status, Pay Plan, Grade and Step, Annual Salary, Occupational Series, Position Title, Organization Code, GSA Location Code, Duty Station, Veteran Preference, Type of Appointment, Tenure Group, Work Schedule, Type of Employment, FLSA, Bargaining Unit Status, Occupational Category, Type of Position, Supervisory Status, Position Sensitivity, Education Level, Academic Discipline, Year of Degree, Special Employee Code, Special Program Code Performance Rating, Performance Year, Enter on Duty Date w/HUD, Date last Grade Promotion, Target Grade, and Date entered Present Position. The EEO Discrimination Complaint processing portion of the system contains information on complaints, both formal and informal, filed by HUD employees and applicants for employment. The information in EEOMIS includes, but is not limited to: Complainant's Name, Complaint Type, Alleged Discriminating Official, Basis/Issues, Witnesses, Related Correspondence, Step-by-Step Processing Record, Final Disposition, and Summary of Complaint

AUTHORITY FOR MAINTENANCE OF THE SYSTEM:

The legal bases for maintaining the system are: Section 717 of Title VII of the Civil Rights Act of 1964, as amended, to ensure enforcement of Federal equal employment opportunity policy requires Federal agencies to maintain Affirmative Employment Programs apply the same legal standards to prohibit discrimination established for private employers; and to eliminate discrimination that Congress found existing throughout the Federal employment system. The Rehabilitation Act of 1973, as amended, required the same for persons with disabilities; the Uniform Guidelines on Employee Selection Procedures, dated 8/78 requires records to be maintained which allow determinations to be made of the impact of selection procedures on members of various race, sex and ethnic groups. The Civil Service Reform Act of 1978, requires Federal agencies to conduct affirmative recruitment for those occupations and grades within their work force in which underrepresentation of women and minorities exists. Equal Employment Opportunity Commission (EEOC) Management Directive (MD) 702, dated 12/79 required that Federal agencies develop and implement information systems that provide periodical status reports on a statistical work force profiles and on affirmative employment objectives. Federal Personnel Manual (FPM) Letters 720-4, dated 1/80 and 720-6 dated 10/80 established broad instructions and procedures for the collection of race, sex, and ethnic origin data on job applicants.

PURPOSE:

EEOMIS is an internal management information system used to monitor, evaluate, and report the effectiveness of the Department's EEO/AE Program. However, all EEOMIS Users, excluding those in the Office of Departmental Equal Employment Opportunity, have restricted access. Those users cannot retrieve individually identified personal privacy information. Annually, ODEEO process EEO Counseling, and pre- and formal complaints. This information must be reported annually to the EEOC and must be processed in compliance with: EEOC Form 462 format; EEOC Management Directives 110 & 715; 29 CFR 1614; the Notification & Federal Employee Anti-discrimination and Retaliation (NO FEAR) Act of 2002, and HUD policies. Additionally, data must be maintained to provide workforce profile analyses as key Departmental indicators for improving utilization of human capital; EEO barrier identification and elimination; tracking; management and reporting under Title VII, and obligations under the Rehabilitation Act. Specific maintenance requirements are necessary to keep current with various mandates from the EEOC and other Federal regulations.

ROUTINE USES OF RECORDS MAINTAINED IN THE SYSTEM, INCLUDING CATEGORIES OF USERS AND THE PURPOSES OF SUCH USES:

In addition to those disclosures generally permitted under 5 U.S.C. 552a(b) of the Privacy Act, HUD may disclose information contained in this system of records without the consent of the subject individual if the disclosure is compatible with the purpose for which the record was collected under the following routine use:

1. To another federal agency, to a court, or to a party in litigation before a court or in an administrative proceeding being conducted by a federal agency when the government is a party to the judicial or administrative proceeding.

POLICIES AND PRACTICES FOR STORING, RETRIEVING, ACCESSING, RETAINING, AND DISPOSING OF RECORDS IN THE SYSTEM:

STORAGE:

Limited information is stored in a computerized database. Hard copy records are maintained in a secured area, in locked file cabinets to which only authorized ODEEO personnel have access. Any hard copy reports, not in statistical format, generated from the database are stored in a secured office with restricted access. Inactive records are transfer to the HUD Records Management Center.

RETRIEVABILITY:

The data is retrievable by any of the data items listed under “Categories of Records in the System.” The records are retrievable by charging party name, employer name and charge number.

SAFEGUARDS:

EEOMIS is a LAN based computerized system and only authorized users have the EEOMIS icon on their computers. In addition to the icon, only those users who have been entered into EEOMIS as “authorized” and gain access through an assigned a password. EEOMIS access passwords are assigned and entered by the designated System Administrators in ODEEO. Limited information is stored in a computerized database. All Paper records are maintained in a secured area to which only authorized personnel have access. Access to and use of these records is limited to those persons whose official duties require such access. The premises are locked when authorized personnel are not on duty. Access to computerized records is limited, through use of access codes and entry logs, to those whose official duties require access. Any hard copy reports, not in statistical format, generated from the database are stored in a secured office with restricted access.

RETENTION AND DISPOSAL:

All records (paper-based and electronic) are disposed in accordance with HUD's Records Disposition Schedule 51, 2225.6 REV-1,CHG-42. All paper-based records and reports are held for a six year period then destroyed by shredding. Inactive records are transfer to the HUD Records Management Center and destroyed after the retention has been met. Electronic records that meet their full retention period will be disposed of in accordance with the HUD's IT Security Handbook (2400.25), pursuant to NIST SP 800-88, Media Sanitation procedures.

SYSTEM MANAGER AND ADDRESS:

Michelle A. Cottom, Acting Director, Office of Departmental Equal Employment Opportunity, 451 Seventh Street, SW Room #3124, Washington, DC 20410.

NOTIFICATION AND RECORD ACCESS PROCEDURE:

For information, assistance, or inquiry about the existence of records, contact the Privacy Act Officer at the Department of Housing and Urban Development, 451 7th Street SW., Room P8202, Washington, DC 20410, in accordance with procedures in 24 CFR part 16.

CONTESTING RECORD PROCEDURES:

The Department's rules for contesting the contents of records and appealing initial denials, by the individual concerned, appears in 24 CFR part 16. If additional information or assistance is needed, it may be obtained by contacting:

(i) In relation to contesting contests of records, the Privacy Act Officer at the appropriate location, the Department of Housing and Urban Development, 451 Seventh Street SW., (Attention: Capitol View Building, 4th Floor), Washington, DC 20410, or

(ii) in relation to appeals of initial denials, the Department of Housing and Urban Development, Departmental Privacy Appeals Officer, Office of General Counsel, 451 Seventh Street SW., Washington, DC 20410.

RECORD SOURCE CATEGORIES:

Initial employee personal information is collected when first appointed as HUD employees (i.e. full name, date of birth, disability status, etc.). Initial position/employment related information for each employee is derived from the type of appointment and specific position (title, series, grade, organization, duty station, etc.) under/for which they were hired. Updates to information on current employees are the results of personnel actions affecting employees (i.e. promotions, reassignments, etc.) and those self-initiated by employees (i.e. changes in disability status/medical condition). Information on EEO Discrimination Complaint processing is collected and entered directly into EEOMIS by ODEEO staff as complaints are filed and processed.

EXEMPTIONS FROM CERTAIN PROVISIONS OF THE ACT:

None.

SYSTEM OF RECORD NO.:

OIG-GA.01

SYSTEM NAME:

Independent Auditor Monitoring Files of the Office of Inspector General.

SYSTEM LOCATION:

HUD OIG Headquarters, 451 7th Street SW; Washington DC and field office in Cherry Hill, New Jersey. Refer to Appendix II for complete address listings.

CATEGORIES OF INDIVIDUALS COVERED BY THE SYSTEM: Individuals covered are non-federal independent auditors who have conducted audits of recipients of Federal funds received under HUD's programs. An independent auditor is: (a) A licensed certified public accountant or a person working for a licensed certified public accounting firm, or (b) a public accountant licensed on or before December 31, 1970, or a person working for a public accounting firm licensed on or before December 31, 1970.

CATEGORIES OF RECORDS IN THE SYSTEM:

Records consist of materials generated in connection with quality control reviews of the working papers of independent auditors, including standardized checklists for evaluating an independent auditor's work performance. Elements collected will include the name of the independent auditor and his or her contact information and name of the entity audited. The remaining information collected generally consists of pdfs or copies of audit work papers.

AUTHORITY FOR MAINTENANCE OF THE SYSTEM:

The Inspector General Act of 1978, 5 U.S.C. App., requires the Inspector General to assure that any work performed by non-federal auditors complies with the auditing standards established by the Comptroller General of the United States for audits of federal establishments, organizations, programs, activities and functions.

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, State or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate State boards of accountancy for possible administrative or disciplinary sanctions such as license revocation. These referrals will be made only after the independent auditor has been notified that the OIG is contemplating disclosure of its findings to an appropriate State board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other federal agencies, as necessary.

POLICIES AND PRACTICES FOR STORING, RETRIEVING, ACCESSING, RETAINING, AND DISPOSING OF RECORDS IN THE SYSTEM:

STORAGE:

Records are stored manually in file jackets and electronically in office automation equipment.

RETRIEVABILITY:

Records are retrieved by manual or computer search of indices containing the name of the individual to whom the record pertains or the name of the entity.

SAFEGUARDS:

Records are maintained in locked file cabinets or in metal file cabinets in secured rooms or premises with access limited to those persons whose official duties require access. Computer terminals are secured in controlled areas which are locked when unoccupied. Access to automated records is limited to authorized personnel who must use a password system to gain access.

RETENTION AND DISPOSAL:

Retention and disposal: Retention and disposal is in accordance with Records Disposition Schedule 3, Item 79, Appendix 3, HUD Handbook 2225.6, Rev. 1. Data is to be retained for 10 years. Paper records shall be shredded or burned. Back up media may be overwritten until such time as the media is no longer of use; then it shall be purged. All other electronic media shall be purged at the end of its retention.

SYSTEM MANAGER(S) AND ADDRESS:

Assistant Inspector General, Office of Management and Policy, Office of the Inspector General, Department of Housing and Urban Development, 451 Seventh Street SW., Room Number 5254, Washington, DC 20410.

NOTIFICATION AND ACCESS PROCEDURE:

These records are generally exempt from Privacy Act access. The System Manager will give consideration to a request from an individual for notification of whether the system contains records pertaining to that individual. Requests may be made to the OIG Office of Audit, Attn: FOIA/Privacy Act Office; 451 Seventh Street SW., Room 8260, Washington, DC 20410. The procedures for requesting access to records are publicized in 24 CFR part 2003.

CONTESTING RECORD PROCEDURES:

The procedures for requesting amendment or correction of records appear in 24 CFR parts 16 and 2003. The records are generally exempt from Privacy Act amendment or correction. However, the System Manager will give consideration to a request from an individual for amendment or correction of records pertaining to that individual that are indexed and retrieved by reference to that individual's name. Requests may be made to the OIG Office of Audit, Attn: FOIA/Privacy Act Office; 451 Seventh Street SW., Room 8260, Washington, DC 20410. The procedures for requesting amendment or correction of records are publicized in 24 CFR part 2003.

RECORD SOURCE CATEGORIES:

The OIG collects information from the subject independent auditor, HUD, auditees, program participants, complainants and other nongovernment sources.

SYSTEMS EXEMPTED FROM CERTAIN PROVISIONS OF THE ACT:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled for law enforcement purposes, has been exempted from the requirements of subsections (c)(3), (d)(1), (d)(2) and (e)(1) of the Privacy Act pursuant to 5 U.S.C. 552a(k)(2). Finally, this system of records, to the extent that it consists of investigatory material compiled for the purpose of determining suitability, eligibility, or qualifications for Federal civilian employment or Federal contracts, the release of which would reveal the identity of a source who furnished information to the Government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

SYSTEM OF RECORDS NO.:

OIG/GAP.01

SYSTEM NAME:

Auto Audit of the Office of Inspector General.

SYSTEM LOCATION:

HUD OIG Headquarters, 451 Seventh Street SW; Washington DC, District Offices, and Field Offices have access to the database. (Boston, MA; New York City, NY; Philadelphia, PA; Atlanta, GA; Tampa, FL; New Orleans, LA; Kansas City, KS; Chicago, IL; Fort Worth, TX; Los Angeles, CA; Seattle, WA.) Refer to Appendix II for complete address listings.

CATEGORIES OF INDIVIDUALS COVERED BY THE SYSTEM:

Individuals covered consist of: (1) HUD program participants and HUD employees who are associated with an activity that OIG is auditing or reviewing; (2) requesters of an OIG audit or other activity; and (3) persons and entities performing some other role of significance to the OIG's efforts, such as relatives or business associates of HUD program participants or employees, potential witnesses, or persons who represent legal entities that are connected to an OIG audit or other activity. The system also tracks information pertaining to OIG staff handling the audit or other activity, and may contain contact names for relevant staff in other agencies.

CATEGORIES OF RECORDS IN THE SYSTEM:

Records consist of materials compiled and/or generated in connection with audits and other activities performed by OIG staff. These materials include information regarding the planning, conduct and resolution of audits and reviews of HUD programs and participants in those programs, internal legal assistance requests, information requests, responses to such requests, reports of findings, etc. The information consists of audit work papers which are pdf files located within the Auto Audit database. The documents are filed according to their purpose and sequence, not by personal identifiers.

AUTHORITY FOR MAINTENANCE OF THE SYSTEM:

The Inspector General Act of 1978 (5 U.S.C. App. 3) authorizes the Inspector General to conduct, supervise and coordinate audits and investigations relating to the programs and operations of HUD, to engage in other activities that promote economy and efficiency in the programs and operations of HUD, and to receive and investigate complaints concerning possible violations of law, rules, or regulations, or mismanagement, gross waste of funds, abuse of authority, or a substantial or specific danger to the public health or safety.

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

7. Records may be disclosed to DOJ for litigation purposes associated with the representation of OIG and/or HUD before the courts.

8. Records may be disclosed to persons engaged in conducting and reviewing internal and external peer reviews of OIG to ensure auditing standards applicable to Government audits by the Comptroller General of the United States are applied and followed.

9. In the event that these records respond to an audit, investigation or review, which is conducted pursuant to an authorizing law, rule or regulation, and in particular those conducted at the request of the PCIE pursuant to Executive Order 12993, the records may be disclosed to the PCIE and other federal agencies, as necessary.

10. Records may be disclosed to private, state or Federal licensing authorities or boards regulating professional services, such as appraisers, attorneys, insurers, or mortgage brokers, when the records reveal conduct related to activities associated with a HUD program that is appropriate for possible administrative or disciplinary sanctions, such as license revocation.

POLICIES AND PRACTICES FOR STORING, RETRIEVING, ACCESSING, RETAINING, AND DISPOSING OF RECORDS IN THE SYSTEM:

STORAGE:

Records are stored electronically in office automation equipment and manually in file jackets.

RETRIEVABILITY:

Records are retrieved by computer search of the Auto Audit software by reference to a particular file number.

SAFEGUARDS:

Records are maintained in a secure computer network, and in locked file cabinets or in metal file cabinets in rooms with controlled access.

RETENTION AND DISPOSAL:

Retention and disposal: Retention and disposal is in accordance with Records Disposition Schedule 3, Item 79, Appendix 3, HUD Handbook 2225.6, Rev. 1. Historic or significant audit files are PERMANENT, pending appraisal by NARA. All other case files are to be destroyed 10 years after the audit is closed. Records shall be shredded or burned. Electronic media may be overwritten until such time as the media is no longer of use; then it shall be purged. All other electronic media shall be purged at the end of its retention.

SYSTEM MANAGER(s) AND ADDRESS:

Assistant Inspector General for Audit, Office of Audit, Office of the Inspector General, Department of Housing and Urban Development, 451 Seventh Street SW., Room Number 5254, Washington, DC 20410.

NOTIFICATION AND ACCESS PROCEDURE:

These records are generally exempt from Privacy Act access. The System Manager will give consideration to a request from an individual for notification of whether the system contains records pertaining to that individual. Requests may be made to the OIG Office of Investigations, Attn: FOIA/Privacy Act Office; 451 Seventh Street SW., Room 8260, Washington, DC 20410. The procedures for requesting access to records are publicized in 24 CFR part 2003.

CONTESTING RECORD PROCEDURES:

The procedures for requesting amendment or correction of records appear in 24 CFR parts 16 and 2003. The records are generally exempt from Privacy Act amendment or correction. However, the System Manager will give consideration to a request from an individual for amendment or correction of records pertaining to that individual that are indexed and retrieved by reference to that individual's name. Requests may be made to the OIG Office of Investigations, Attn: FOIA/Privacy Act Office; 451 Seventh Street SW., Room 8260, Washington, DC 20410. The procedures for requesting amendment or correction of records are publicized in 24 CFR part 2003.

RECORD SOURCE CATEGORIES:

The OIG collects information from a wide variety of sources, including from HUD, other federal agencies, the General Accounting Office (GAO), law enforcement agencies, program participants, subject individuals, complainants, witnesses and other non-governmental sources.

EXEMPTIONS FROM CERTAIN PROVISIONS OF THE ACT:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled for law enforcement purposes, has been exempted from the requirements of subsections (c)(3), (d)(1), (d)(2) and (e)(1) of the Privacy Act pursuant to 5 U.S.C. 552a(k)(2). Finally, this system of records, to the extent that it consists of investigatory material compiled for the purpose of determining suitability, eligibility, or qualifications for Federal civilian employment or Federal contracts, the release of which would reveal the identity of a source who furnished information to the Government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

SYSTEM OF RECORDS NO.:

OIG/GFB.01

SYSTEM NAME:

Hotline Information Sub System.

SYSTEM LOCATION: HUD OIG Headquarters, Washington, DC.

CATEGORIES OF INDIVIDUALS COVERED BY THE SYSTEM:

Individuals covered consist of: (1) HUD program participants and HUD employees who are subjects of hotline complaints alleging possible violations of law, rules or regulations, mismanagement, gross waste of funds, abuse of authority or a substantial and specific danger to the public health and safety; and (2) HUD employees and members of the general public who are complainants.

CATEGORIES OF RECORDS IN THE SYSTEM:

Records consist of all forms and documentation generated by the complaint, including recommended and final disposition of the matter. Information collected depends on the nature of the complaint but may consist of Names, Addresses, Telephone Numbers, Place of Employment, Types of Vehicles, Income, and Dates of Birth.

AUTHORITY FOR MAINTENANCE OF THE SYSTEM:

The Inspector General Act of 1978, 5 U.S.C. App., authorizes the Inspector General to conduct, supervise and coordinate activities that promote economy and efficiency in the programs and operations of HUD, and to receive and investigate complaints concerning possible violations of law, rules, or regulations, or mismanagement, gross waste of funds, abuse of authority or a substantial and specific danger to the public health or safety.

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule or regulation.

2. Records may be disclosed to HUD contractors, Public Housing Authorities or management agents of HUD-assisted housing projects, in order to assist such entities in taking or defending actions to recover money or property, or take personnel actions based on an OIG investigation or audit, where such recovery or personnel action serves to promote the integrity of the programs or operations of HUD.

3. Records may be disclosed during the course of an administrative proceeding where HUD is a party to the litigation and the disclosure is relevant and reasonably necessary to adjudicate the matter.

4. Records may be disclosed to any source, either private or governmental, to the extent necessary to elicit information relevant to an OIG investigation.

5. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

6. Records may be disclosed to DOJ for litigation purposes associated with the representation of OIG and/or HUD before the courts.

7. Records may be disclosed to persons engaged in conducting and reviewing internal and external peer reviews of OIG to ensure adequate internal safeguards and management procedures exist within any office that had received law enforcement authorization.

8. In the event that these records respond to an audit, investigation or review, which is conducted pursuant to an authorizing law, rule or regulation, and in particular those conducted at the request of the PCIE pursuant to Executive Order 12993, the records may be disclosed to the PCIE and other federal agencies, as necessary.

9. Records may be disclosed to private, state or Federal licensing authorities or boards regulating professional services, such as appraisers, attorneys, insurers, or mortgage brokers, when the records reveal conduct related to activities associated with a HUD program that is appropriate for possible administrative or disciplinary sanctions, such as license revocation.

POLICIES AND PRACTICES FOR STORING, RETRIEVING, ACCESSING, RETAINING, AND DISPOSING OF RECORDS IN THE SYSTEM:

STORAGE:

Records are stored electronically in office automation equipment.

RETRIEVABILITY:

Records are retrieved by a computer search of indices containing the name, home address, home telephone number, and identification number assigned to the individual to whom the record pertains.

SAFEGUARDS:

Records are maintained in secured rooms or premises with access limited to those persons whose official duties require access. Computer terminals are secured in controlled areas which are locked when unoccupied. Access to automated records is limited to authorized personnel who must use a password system to gain access.

RETENTION AND DISPOSAL:

Retention and disposal: Retention and disposal is in accordance with Records Disposition Schedule 3, Item 81, Appendix 3, HUD Handbook 2225.6, Rev. 1. Historic or significant investigation files are PERMANENT, pending appraisal by NARA. All other case files are to be destroyed 10 years after the case is closed. Records shall be shredded or burned. Electronic media may be overwritten until such time as the media is no longer of use; then it shall be purged. All other electronic media shall be purged at the end of its retention period.

SYSTEM MANAGER(S) AND ADDRESS:

Assistant Inspector General, Office of Management and Policy, Office of the Inspector General, Department of Housing and Urban Development, 451 Seventh Street SW., Room Number 5254, Washington, DC 20410.

NOTIFICATION AND ACCESS PROCEDURE:

Records are generally exempt from Privacy Act access. The System Manager will give consideration to a request from an individual for notification of whether the system contains records pertaining to that individual. Requests may be made to the OIG Office of Management and Policy, Attn: FOIA/Privacy Act Office; 451 Seventh Street SW., Room 8260, Washington, DC 20410. The procedures for requesting access to records are publicized in 24 CFR part 2003.

CONTESTING RECORD PROCEDURES:

The procedures for requesting amendment or correction of records appear in 24 CFR parts 16 and 2003. The records are generally exempt from Privacy Act amendment or correction. However, the System Manager will give consideration to a request from an individual for amendment or correction of records pertaining to that individual that are indexed and retrieved by reference to that individual's name. Requests may be made to the OIG Office of Management and Policy, Attn: FOIA/Privacy Act Office; 451 Seventh Street SW., Room 8260, Washington, DC 20410. The procedures for requesting amendment or correction of records are publicized in 24 CFR part 2003.

RECORD SOURCE CATEGORIES:

The OIG collects information from a wide variety of sources, including from HUD, the General Accounting Office, other federal agencies, program participants, subject individuals, complaints, witnesses and other nongovernmental sources.

SYSTEMS EXEMPTED FROM CERTAIN PROVISIONS OF THE ACT:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled for law enforcement purposes, has been exempted from the requirements of subsections (c)(3), (d)(1), (d)(2) and (e)(1) of the Privacy Act pursuant to 5 U.S.C. 552a(k)(2). Finally, this system of records, to the extent that it consists of investigatory material compiled for the purpose of determining suitability, eligibility, or qualifications for Federal civilian employment or Federal contracts, the release of which would reveal the identity of a source who furnished information to the Government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

SYSTEM OF RECORDS NO.:

OIG/GIP.01

SYSTEM NAME:

Investigative Files of the Office of Inspector General.

SYSTEM LOCATION:

HUD OIG Headquarters, Washington DC and OIG Office of Investigations field offices.³

³ http://csfintraweb.hudoig.gov/offices.html.

CATEGORIES OF INDIVIDUALS COVERED BY THE SYSTEM:

Individuals covered consist of: (1) HUD program participants and HUD employees who are associated with an activity that OIG is investigating or evaluating; (2) requesters of an OIG investigative or other activity; and (3) persons and entities performing some other role of significance to the OIG's efforts, such as relatives or business associates of HUD program participants or employees, potential witnesses, or persons who represent legal entities that are connected to an OIG investigation or other activity. The system also tracks information pertaining to OIG staff handling the investigation or other activity, and may contain contact names for relevant staff in other agencies.

CATEGORIES OF RECORDS IN THE SYSTEM:

These materials include information regarding the planning, conduct and prosecution of investigations of HUD program participants and employees, legal assistance requests, information requests, responses to such requests, reports of investigations, etc. Data resources include the individual's name, Social Security Number, date of birth, home address, home telephone number, personal email address, Employee Identification Number, Tax Identification, Driver License Number and name, passport information, State Identification, Narcotics and Dangerous Drugs Information System, Federal Bureau Investigation Number ; Race/ethnicity, Gender, Employment History, Education, Income, and Financial information.

AUTHORITY FOR MAINTENANCE OF THE SYSTEM:

The Inspector General Act of 1978, 5 U.S.C. Appx. authorizes the Inspector General to conduct, supervise and coordinate investigations relating to the programs and operations of HUD.

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule or regulation.

2. Records may be disclosed to HUD contractors, Public Housing Authorities or management agents of HUD-assisted housing projects, in order to assist such entities in taking or defending actions to recover money or property, or take personnel actions based on an OIG investigation or audit, where such recovery or personnel action serves to promote the integrity of the programs or operations of HUD.

3. Records may be disclosed during the course of an administrative proceeding where HUD is a party to the litigation and the disclosure is relevant and reasonably necessary to adjudicate the matter.

4. Records may be disclosed to any source, either private or governmental, to the extent necessary to elicit information relevant to an OIG investigation.

5. Records may be disclosed to appropriate state boards of accountancy for possible administrative or disciplinary sanctions such as license revocation. These referrals will be made only after the independent auditor has been notified that the OIG is contemplating disclosure of its findings to an appropriate state board of accountancy, and the independent auditor has been provided with an opportunity to respond in writing to the OIG's findings.

6. Records may be disclosed to DOJ for litigation purposes associated with the representation of OIG and/or HUD before the courts.

7. Records may be disclosed to persons engaged in conducting and reviewing internal and external peer reviews of OIG to ensure adequate internal safeguards and management procedures exist within any office that had received law enforcement authorization.

8. In the event that these records respond to an audit, investigation or review, which is conducted pursuant to an authorizing law, rule or regulation, and in particular those conducted at the request of the CIGIE pursuant to Executive Order 12993, the records may be disclosed to the CIGIE and other federal agencies, as necessary.

9. Records may be disclosed to private, state or Federal licensing authorities or boards regulating professional services, such as appraisers, attorneys, insurers, or mortgage brokers, when the records reveal conduct related to activities associated with a HUD program that is appropriate for possible administrative or disciplinary sanctions, such as license revocation.

POLICIES AND PRACTICES FOR STORING, RETRIEVING, ACCESSING, RETAINING, AND DISPOSING OF RECORDS IN THE SYSTEM:

STORAGE:

Records are stored manually in file jackets in an office file system.

RETRIEVABILITY:

Records are retrieved by manual search of indices containing the name of the individual to whom the record pertains or by the case number.

SAFEGUARDS:

Records are maintained in locked file cabinets or in metal file cabinets in secured rooms or premises with access limited to those persons whose official duties require access. The public does not access to these spaces.

RETENTION AND DISPOSAL:

Retention and disposal: Retention and disposal is in accordance with Records Disposition Schedule 3, Item 81, Appendix 3, HUD Handbook 2225.6, Rev. 1. Historic or significant investigation files are PERMANENT, pending appraisal by NARA. All other case files are to be destroyed 10 years after the case is closed. Records shall be shredded or burned.

SYSTEM MANAGER(S) AND ADDRESS:

Assistant Inspector General, Office of Investigations, Office of the Inspector General, Department of Housing and Urban Development, 451 Seventh Street, SW., Room Number 5254, Washington, DC 20410.

NOTIFICATION AND ACCESS PROCEDURE:

These records are generally exempt from Privacy Act access. The System Manager will give consideration to a request from an individual for notification of whether the system contains records pertaining to that individual. Requests may be made to the OIG Office of Investigations, Attn: FOIA/Privacy Act Office; 451 Seventh Street SW., Room 8260, Washington, DC 20410. The procedures for requesting access to records are publicized in 24 CFR part 2003.

CONTESTING RECORD PROCEDURES:

The procedures for requesting amendment or correction of records appear in 24 CFR parts 16 and 2003. The records are generally exempt from Privacy Act amendment or correction. However, the System Manager will give consideration to a request from an individual for amendment or correction of records pertaining to that individual, that are indexed and retrieved by reference to that individual's name. Requests may be made to the OIG Office of Investigations, Attn: FOIA/Privacy Act Office; 451 Seventh Street SW., Room 8260, Washington, DC 20410. The procedures for requesting amendment or correction of records are publicized in 24 CFR part 2003.

RECORD SOURCE CATEGORIES:

The OIG collects information from a wide variety of sources, including from HUD, law enforcement agencies, program participants, subject individuals, complainants witnesses and other nongovernmental sources.

SYSTEMS EXEMPTED FROM CERTAIN PROVISIONS OF THE ACT:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled for law enforcement purposes, has been exempted from the requirements of subsections (c)(3), (d)(1), (d)(2) and (e)(1) of the Privacy Act pursuant to 5 U.S.C. 552a(k)(2). Finally, this system of records, to the extent that it consists of investigatory material compiled for the purpose of determining suitability, eligibility, or qualifications for Federal civilian employment or Federal contracts, the release of which would reveal the identity of a source who furnished information to the Government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

SYSTEM OF RECORDS NO.:

OIG/GIP.02

SYSTEM NAME:

Auto Investigation and Case Management Information Subsystem (AI/CMISS).

SYSTEM LOCATION:

HUD OIG Headquarters, 451 Seventh Street SW., Washington DC.

CATEGORIES OF INDIVIDUALS COVERED BY THE SYSTEM:

Individuals covered consist of: (1) HUD program participants and HUD employees who are associated with an activity that OIG is investigating or evaluating; (2) requesters of an OIG investigative or other activity; and (3) persons and entities performing some other role of significance to the OIG's efforts, such as relatives or business associates of HUD program participants or employees, potential witnesses, or persons who represent legal entities that are connected to an OIG investigation or other activity. The system also tracks information pertaining to OIG staff handling the investigation or other activity, and may contain contact names for relevant staff in other agencies.

CATEGORIES OF RECORDS IN THE SYSTEM:

Records consist of investigatory material compiled and/or generated for law enforcement purposes in connection with investigations and other activities performed by OIG staff. These materials include information regarding the planning, conduct and prosecution of investigations of HUD program participants and employees, legal assistance requests, information requests, responses to such requests, reports of investigations, etc. Data resources include the individual's name, Social Security Number, date of birth, home address, home telephone number, personal email address, Employee Identification Number, Tax Identification, Driver License Number and name, passport information, State Identification, Narcotics and Dangerous Drugs Information System, Federal Bureau Investigation Number ; Race/ethnicity, Gender, Employment History, Education, Income, and Financial information.

AUTHORITY FOR MAINTENANCE OF THE SYSTEM:

The Inspector General Act of 1978 authorizes the Inspector General to conduct, supervise and coordinate audits and investigations relating to the programs and operations of HUD, to engage in other activities that promote economy and efficiency in the programs and operations of HUD, and to receive and investigate complaints concerning possible violations of law, rules, or regulations, or mismanagement, gross waste of funds, abuse of authority, or a substantial or specific danger to the public health or safety.

PURPOSES:

AI/CMISS provides HUD OIG Investigations with an automated system which manages cases under investigation from their inception to their closing through a centralized data repository of case information. AI/CMISS and its environment is a secure environment where access to information is controlled through a formal process of checks and authorizations involving a hierarchical supervisory structure. Special Agents in Charge (SAC), Assistant Special Agents in Charge (ASAC), Supervisory Forensic Auditors (SFA), Forensic Auditors (FA), Special Agents (SA) and support staff, document all steps in their assigned activities. Additionally, due to judicial involvement in some of the cases, the files kept and maintained by HUD OIG may be made available to the courts under discovery. AI/CMISS provides data that is currently available through the intranet to the investigators and auditors. This provides a method for remote HUD OIG users and traveling employees to access the AI/CMISS systems from their laptops regardless of whether or not they are located within a HUD OIG office. Both Systems support the HUD OIG requirement to maintain a detailed audit trail of cases to closure. This requires a system, which will be capable of capturing and maintaining data integrity during the complete case cycle while ensuring data privacy and confidentiality.

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate federal, state, or local agency charged with the responsibility for investigating or prosecuting such violation or enforcing or implementing such statute, rule, or regulation.

2. Records may be disclosed to a congressional office in response to an inquiry from that congressional office made at the request of the individual who is the subject of the records.

3. Records may be disclosed to HUD contractors, Public Housing Authorities or management agents of HUD-assisted housing projects, in order to assist such entities in taking or defending actions to recover money or property, or take personnel actions based on an OIG investigation or audit, where such recovery or personnel action serves to promote the integrity of the programs or operations of HUD.

4. Records may be disclosed during the course of an administrative proceeding where HUD is a party to the litigation and the disclosure is relevant and reasonably necessary to adjudicate the matter.

5. Records may be disclosed to any source, either private or governmental, to the extent necessary to elicit information relevant to an OIG investigation.

6. Records may be disclosed to appropriate state boards of accountancy for possible administrative or disciplinary sanctions such as license revocation. These referrals will be made only after the independent auditor has been notified that the OIG is contemplating disclosure of its findings to an appropriate state board of accountancy, and the independent auditor has been provided it an opportunity to respond in writing to the OIG's findings.

7. Records may be disclosed to DOJ for litigation purposes associated with the representation of OIG and/or HUD before the courts.

8. Records may be disclosed to persons engaged in conducting and reviewing internal and external peer reviews of OIG to ensure adequate internal safeguards and management procedures exist within any office that had received law enforcement authorization.

9. In the event that these records respond to an audit, investigation or review, which is conducted pursuant to an authorizing law, rule or regulation, and in particular those conducted at the request of the PCIE pursuant to Executive Order 12993, the records may be disclosed to the PCIE and other federal agencies, as necessary.

10. Additional Disclosure for Purposes of Facilitating Responses and Remediation Efforts in the Event of a Data Breach. A record from a system of records maintained by this Department may be disclosed to appropriate agencies, entities, and persons when:

a. The Department suspects or has confirmed that the security or confidentiality of information in a system of records has been compromised;

b. The Department has determined that as a result of the suspected or confirmed compromise there is a risk of harm to economic or property interests, identity theft or fraud, or harm to the security or integrity of systems or programs (whether maintained by the Department or another agency or entity) that rely upon the compromised information; and,

c. The disclosure made to such agencies, entities, and persons is reasonably necessary to assist in connection with the Department's efforts to respond to the suspected or confirmed compromise and prevent, minimize, or remedy such harm.

11. Records may be disclosed to private, state or Federal licensing authorities or boards regulating professional services, such as appraisers, attorneys, insurers, or mortgage brokers, when the records reveal conduct related to activities associated with a HUD program that is appropriate for possible administrative or disciplinary sanctions, such as license revocation.

POLICIES AND PRACTICES FOR STORING, RETRIEVING, ACCESSING, RETAINING, AND DISPOSING OF RECORDS IN THE SYSTEM:

STORAGE:

Records are stored electronically in office automation equipment.

RETRIEVABILITY:

Records are retrieved by computer search of the CMISS software by reference to individual's name, Social Security Number, Employee Identification Number, Tax Identification, Driver License Number and name, passport information, State Identification, Narcotics and Dangerous Drugs Information System, or Federal Bureau Investigation Number, and/or by reference to a particular file number.

SAFEGUARDS:

Records are maintained in a secure computer network.

RETENTION AND DISPOSAL:

Retention and disposal: Retention and disposal is in accordance with Records Disposition Schedule 3, Item 81, Appendix 3, HUD Handbook 2225.6, Rev. 1. Historic or significant investigation files are PERMANENT, pending appraisal by NARA. All other case files are to be destroyed 10 years after the case is closed. Records shall be shredded or burned. Electronic media may be overwritten until such time as the media is no longer of use; then it shall be purged. All other electronic media shall be purged at the end of its retention.

SYSTEM MANAGER(S) AND ADDRESS:

Assistant Inspector General for Investigation, Office of the Inspector General, Department of Housing and Urban Development, 451 Seventh Street SW., Washington, DC 20410.

NOTIFICATION AND ACCESS PROCEDURE:

These records are generally exempt from Privacy Act access. The System Manager will give consideration to a request from an individual for notification of whether the system contains records pertaining to that individual. Requests may be made to the OIG Office of Investigations, Attn: FOIA/Privacy Act Office; 451 Seventh Street SW., Room 8260, Washington, DC 20410. The procedures for requesting access to records are publicized in 24 CFR part 2003.

CONTESTING RECORD PROCEDURES:

The procedures for requesting amendment or correction of records appear in 24 CFR parts 16 and 2003. The records are generally exempt from Privacy Act amendment or correction. However, the System Manager will give consideration to a request from an individual for amendment or correction of records pertaining to that individual that are indexed and retrieved by reference to that individual's name. Requests may be made to the OIG Office of Investigations, Attn: FOIA/Privacy Act Office; 451 Seventh Street SW., Room 8260, Washington, DC 20410. The procedures for requesting amendment or correction of records are publicized in 24 CFR part 2003.

RECORD SOURCE CATEGORIES:

The OIG collects information from a wide variety of sources, including from HUD, other federal agencies, GAO, law enforcement agencies, program participants, subject individuals, complainants, witnesses and other non-governmental sources.

EXEMPTIONS FROM CERTAIN PROVISIONS OF THE ACT:

This system of records, to the extent that it consists of information compiled for the purpose of criminal investigations, has been exempted from the requirements of subsections (c)(3), (d)(1), (d)(2), (e)(1), (e)(2) and (e)(3) of the Privacy Act pursuant to 5 U.S.C. 552a(j)(2). In addition, this system of records, to the extent that it consists of other investigatory material compiled or generated for law enforcement purposes, has been exempted from the requirements of subsections (c)(3), (d)(1), (d)(2) and (e)(1) of the Privacy Act pursuant to 5 U.S.C. 552a(k)(2). Finally, this system of records, to the extent that it consists of investigatory material compiled or generated for the purpose of determining suitability, eligibility, or qualifications for Federal civilian employment or Federal contracts, the release of which would reveal the identity of a source who furnished information to the government under an express promise that the identity of the source would be held in confidence, has been exempted from the requirements of subsection (d)(1) of the Privacy Act pursuant to 5 U.S.C. 552a(k)(5). Rules have been promulgated in accordance with the requirements of 5 U.S.C. 553(b), (c) and (e) and have been published in the Federal Register.

SYSTEM OF RECORDS NO.:

CPD/DGHR.01

SYSTEM NAME:

Relocation Assistance Files.

SYSTEM LOCATION:

HUD Headquarters and field offices. The storage facility for Relocation Assistance Files is the Washington National Records Center (WNRC), 4205 Suitland Road, Suitland, MD 20746-8001.

CATEGORIES OF INDIVIDUALS COVERED BY THE SYSTEM:

Persons (individuals, families, partnerships, corporations, associations) who have been, or will be, displaced or moved temporarily from a HUD-assisted program or project, and relocation claimants who have filed grievances.

CATEGORIES OF RECORDS IN THE SYSTEM:

For relocation complaints and appeals: Names of relocation claimants; documentation of relocation needs and problems; relocation claims; documentation and evaluation of relocation claims; recommendations concerning amounts of assistance; inquiries and grievances; responses to grievances; audits. For persons displaced from residential units only, records may contain information on household occupants including gender, age, income, assets, certain deductible expenses, housing costs, utility costs and information related to mobility and other special needs.

AUTHORITY FOR MAINTENANCE OF THE SYSTEM:

Uniform Relocation Assistance and Real Property Acquisition Policies Act of 1970 (Pub. L. 91-646), 42 U.S.C. 4601, and Section 104(d) of the Housing and Community Development Act of 1974, 42 U.S.C. 5304(d)).

PURPOSE:

To demonstrate that relocation assistance provided to displaced persons or temporarily relocated persons is in compliance with the requirements of the Uniform Relocation Assistance and Real Property Acquisition Policies Act of 1970 and, where applicable, Section 104(d) of the Housing and Community Development Act of 1974. HUD uses the information in the Relocation Assistance Files to determine a person's eligibility to receive relocation assistance and to determine the type of assistance and the monetary amounts of assistance, if any, a person is eligible to receive. CPD analyzes the information, makes a determination and conveys its determination to (1) the program participant that administers the HUD-assisted program or project which has affected the displaced or relocated person and (2) the complainant. The information in the Relocation Assistance Files is maintained by HUD.

ROUTINE USES OF RECORDS MAINTAINED IN THE SYSTEM, INCLUDING CATEGORIES OF USERS AND THE PURPOSES OF SUCH USES:

In addition to those disclosures generally permitted under 5 U.S.C. 552a(b) of the Privacy Act, HUD may disclose information contained in this system of records without the consent of the subject individual if the disclosure is compatible with the purpose for which the record was collected under the following routine use:

1. Other routine uses: To local public agencies—for processing, training and monitoring purposes to assure compliance with the Uniform Relocation Assistance and Real Property Acquisition Policies Act of 1970 and/or Section 104(d) of the Housing and Community Development Act of 1974.

POLICIES AND PRACTICES FOR STORING, RETRIEVING, ACCESSING, RETAINING, AND DISPOSING OF RECORDS IN THE SYSTEM:

STORAGE:

In file folders. No electronic records are maintained by the system of records.

RETRIEVABILITY:

By name and case file number of subject individual.

SAFEGUARDS:

Stored in lockable file cabinets; access limited to authorized personnel. No electronic records are maintained by the system of records.

RETENTION AND DISPOSAL:

Files are active. Disposition: Temporary.

Records are retained in CPD for at least 3 years after each person displaced or temporarily relocated for a HUD-assisted program or project receives the final payment to which he or she is entitled under the Uniform Relocation Assistance and Real Property Acquisition Policies Act of 1970, or Section 104(d) of the Housing and Community Development Act. After 3 years, these records become inactive and are boxed and sent to the Washington National Records Center (WNRC), 4205 Suitland Road, Suitland, MD 20746-8001. WNRC holds inactive files for 6 years and 30 days, after which they are shredded or burned as appropriate, in accordance with WNRC policy.

SYSTEM MANAGER(S) AND ADDRESS:

Director, Relocation and Real Estate Division, Office of Affordable Housing Programs, Community Planning and Development, Department of Housing and Urban Development, 451 Seventh Street SW., Washington, DC 20410.

RECORD ACCESS PROCEDURES:

The Department's rules for providing access to records to the individual concerned appear in 24 CFR part 16. If additional information or assistance is required, contact the Privacy Act Officer at the appropriate location. A list of all locations is given in appendix A.

CONTESTING RECORD PROCEDURES:

The Department's rules for contesting the contents of records and appealing initial denials, by the individual concerned, appear in 24 CFR part 16. If additional informational or assistance is needed, it may be obtained by contacting:

(i) In relation to contesting contents of records, the Privacy Act Officer at HUD, 451 Seventh Street, SW., Room 4178 (Attention: Capitol View Building, 4th Floor), Washington, DC 20410; or

(ii) In relation to appeals of initial denials, the HUD Department at Privacy Appeals Officer, Office of General Counsel, Department of Housing and Urban Development, 451 Seventh Street SW., Washington, DC 20410.

RECORD SOURCE CATEGORIES:

Subject and other individuals; current and previous employers; credit bureaus and financial institutions; firms federal and non-federal agencies.

SYSTEM OF RECORDS NO.:

PD&R/RPT.09

SYSTEM NAME:

HUD USER File for Research Products, Services and Publications.

SYSTEM LOCATION:

HUD USER Warehouse located at 44077 Mercure Circle, Sterling, VA 20166 and HUD USER Clearinghouse System located at 11491 Sunset Hills Road, Suite 350, Reston VA 20190.

CATEGORIES OF INDIVIDUALS COVERED BY THE SYSTEM:

The system contains information on those individuals who have expressed an interest in receiving research products and services publications.

CATEGORIES OF RECORDS IN THE SYSTEM:

The system provides a record of individuals who request research products which includes name, title and address; telephone and fax numbers; emails; organizations affiliation and areas of interest; publications of interest; and order information including what was ordered and when.

AUTHORITY FOR MAINTENANCE OF THE SYSTEM:

Title V of the Housing and Urban Development Act of 1970, section 501.

PURPOSE: The information is collected for the purpose of fulfilling order requests from individuals to receive PD&R research products including publications, data sets, brochures, and other materials.

ROUTINE USES OF RECORDS MAINTAINED IN THE SYSTEM, INCLUDING CATEGORIES OF USERS AND THE PURPOSES OF SUCH USES:

In addition to those disclosures generally permitted under 5 U.S.C. 552a(b) of the Privacy Act. HUD may disclose information contained in this system of records without the consent of the subject individual in accordance with its discretionary disclosures, when such disclosure is compatible with the purpose for which the record was collected. Refer to this notice “Prefatory Statements of General Routine Uses” section for a description of these disclosures that may apply this this system of records.

1. Records from the system are provided to the contractor providing service on behalf of PD&R, with funds provided by PDR for the purpose of disseminating PD&R research products.

POLICIES AND PRACTICES FOR STORING, RETRIEVING, ACCESSING, RETAINING AND DISPOSING OF RECORDS IN THE SYSTEM:

STORAGE:

Hard copy files are stored at the HUD User Information Center and electronically on office automation equipment.

RETRIEVABILITY: Records are retrieved by the name of the individual.

SAFEGUARDS:

These records are available only to those persons whose official duties require such access. Hard copy records are stored in locked file cabinets. Access to electronic records are restricted and granted by User ID and password.

RETENTION AND DISPOSAL:

Written and electronic records are maintained in accordance with the HUD's Records Disposition Schedules, Handbook 2225.6, Appendix 9. Hard copy records are held for a period of three years, and then destroyed by shredding. Hard copy files of an historical value are converted to electronic format after a (3) month period and destroyed afterwards by shredding. All electronic files are of historical value and are stored for an indefinite period at the HUD User Information Center as part of the HUD User Order Processing System.

SYSTEM MANAGER(S) AND ADDRESS:

Director, Research Utilization Division, 451 Seventh Street, SW., Room 8110, Washington, DC 20410.

NOTIFICATION AND ACCESS PROCEDURE:

Individuals seeking to determine whether this system of records contains information about them, or those seeking access to such records, should address inquiries to Donna Staton-Robinson, Chief Privacy Officer, Department of Housing and Urban Development, 451 Seventh Street SW., Room 4156, Washington, DC 20410. (Attention: Capitol View Building, 4th Floor). Record access requestors must provide identity verification by providing two proofs of official identification. Your verification of identity must include your original signature and must be notarized. The procedures for requesting access to records appear in 24 CFR parts 16 and 2003.

CONTESTING RECORD PROCEDURES:

The rules for contesting the contents of records and appealing initial denials, by the individual concerned, appear in 24 CFR part 16. The procedures for requesting amendment or correction of records appear in 24 CFR parts 16 and 2003. Individuals seeking to contest records contained in this system are as follows:

(i) In relation to contesting contents of records, the Privacy Act Officer at HUD, 451 Seventh Street, SW., Room 4178 (Attention: Capitol View Building, 4th Floor), Washington, DC 20410; or

(ii) In relation to appeals of initial denials, HUD, Departmental Privacy Appeals Officer, Office of General Counsel, 451 Seventh Street SW., Washington, DC 20410.

RECORD SOURCE CATEGORIES:

Information in this system of records is obtained from requests for information made from HUD User or individuals identified to receive notification of new products or initiatives. The requests for information or printed material may come through the Internet, phone, fax, mail, or a site visit.

EXEMPTIONS FROM CERTAIN PROVISIONS OF THE ACT:

None.

SYSTEM OF RECORDS NO.:

PIH-REAC/PE.01

SYSTEM NAME:

Tracking-at-a-Glance® (TAAG)

SYSTEM LOCATION:

Department of Housing and Urban Development, 451 Seventh Street SW., Washington DC 20410

CATEGORIES OF INDIVIDUALS COVERED BY THE SYSTEM:

DHAP participants who were displaced by Hurricanes Katrina or Rita, who received rental subsidy through the DHAP and agreed to all program requirements including case management.

CATEGORIES OF RECORD IN THE SYSTEM:

Files contain identifying information about program participants: and their household members at the time of program implementation: such as name, social security number, FEMA ID number of the eligible head of household member, birth date, current telephone number, and current address. The files hold sensitive information about education level, criminal records, income/financial data, employment and training, disability status, medical history information, and information that were used to assess any barriers to permanent housing attainment and/or increased self- sufficiency.

AUTHORITY FOR MAINTENANCE OF THE SYSTEM:

Legal authority for the data maintained in DHAP is based on the Department of Homeland Security's general grant authority under section 102(b)(2) of the Homeland Security Act, 6 U.S.C. 112, and sections 408(b)(1), 426 and 306(a) of the Robert T. Stafford Disaster Relief and Emergency Assistance Act (Stafford Act), 42 U.S.C. 5174(b)(1), 5189d and 5149(a), respectively.

PURPOSE:

The data was collected to support DHAP grantees in their case management efforts and HUD staff in their program monitoring activities in order to provide required reports to FEMA in fulfillment of its responsibilities outlined within the Inter Agency Agreement. The case management and program monitoring activities for DHAP ended February 28, 2009. Subsequently, the DHAP data still requires further analysis and evaluation by the Department's Office of Policy Development and Research (PD&R), Program Management and Research Division to conduct research and evaluation of national program outcomes. In such cases, PD&R and its approved researchers will further evaluate the data presented by DHAP to produce research reports that will include aggregate level data based on higher level demographic variables that will not disclose information that can be used to identify any individual represented in the system. The records stored hold pertinent data relating to family self-sufficiency, permanent housing status and service needs. The system was procured through contract number: C-DEN-02199 and allowed DHAP grantees to implement and report case management services for FEMA's DHAP- Ike program, for which HUD was the servicing agent. This system and grantee data inputs assisted with the implementation and administration of rental housing assistance and case management services to individuals and families whose residence was rendered uninhabitable as a result of the disaster caused by Hurricanes Katrina and Rita.

ROUTINE USES OF RECORDS MAINTAINED IN THE SYSTEM, INCLUDING CATEGORIES OF USERS AND THE PURPOSE OF SUCH USES:

In addition to those disclosures generally permitted under 5 U.S.C. 552a(b) of the Privacy Act, HUD may disclose information contained in this system of records without the consent of the subject individual if the disclosure is compatible with the purpose for which the record was collected under the following routine use:

1. To contractors, grantees, experts, consultants, Federal agencies, and non-Federal entities including but not limited to state and local governments, and other research institutions or their parties entities and their agents with whom HUD has a contract, service agreement, grant, cooperative agreement with HUD, when necessary to accomplish an agency function related to a system of records for the purposes of statistical analysis and research in support of program operations, management, performance monitoring, evaluation, risk management, and policy development, or to otherwise support the Department's mission. Records under this routine use may not be used in whole or in part to make decisions that affect the rights, benefits or privileges of specific individuals. The results of the matched information may not be disclosed in identifiable form. Any data presented will be provided at the aggregate level.

POLICIES AND PROCEDURES FOR STORING, RETRIEVING, ACCESSING, RETAINING, AND DISPOSING OF RECORDS IN THE SYSTEM:

STORAGE:

Records are stored on the hard drive of a desktop computer. At the HUD level, no manual records are retained. At the grantee level, hard copy files are locked, secured, and reviewed by limited agency staff.

RETRIEVABILITY:

Records are retrieved by PHA name, participant's name, city, zip code, or general demographic characteristics. Clients cannot be searched through the use of a social security number. The data is located on the hard drive of a desktop computer that resides in a locked cabinet, within a locked office. The desktop computer requires a user id and password to log on to the machine. In order to access the data, a user name and password must be utilized to enter the site where the data is housed.

SAFEGUARDS:

Data is housed on a desktop computer hard drive located within a locked cabinet that resides in a locked office. Access to data records are limited to staff who work with the data. Hard copy files retained by grantees are stored by the PHA in locations that are locked and secured, with access granted only to a limited number of authorized agency users in accordance with HUD's approved retention schedule.

RETENTION AND DISPOSAL:

Data is archived and stored via hard drive. Records will be retained and disposed of in accordance with the General Records Schedule included in HUD Handbook 2228.2, appendix 14, items 21-26 and HUD Record Schedule 8 ⁴: Departmental Grant Financial Assistance Records. System records are retained and disposed of in accordance with the HUD Record Schedule 8. Records will be retired to a record center within a sufficient amount of time as appropriate to meet program business needs. Inactive records shall be retained for a minimum of six years, and then destroyed (shredded (or burned) at the end of their retention schedule of lifecycle) when no longer needed for reference or 20 years after cutoff, whichever is sooner. (NARA Job No. NI-207-04-3, item Sb).

⁴ http://portal.hud.gov/hudportal/documents/huddoc?id=22256x8ADMH.pdf.

SYSTEM MANAGER AND ADDRESS:

Iyabo Morrison, Office of Public Housing and Voucher Programs, Department of Housing and Urban Development, 451 Seventh Street SW., Room 4232, Washington, DC, 20410.

NOTIFICATION AND RECORD ACCESS PROCEDURES:

The Department's rules for providing access to records to the individual concerned are in accordance with 24 CFR Part 16—Implementation of the Privacy Act of 1974. Individuals seeking information, assistance, or inquiry about the existence of records should contact the Departmental Privacy Act Officer, Department of Housing and Urban Development, 451 Seventh Street SW., Room 2256, Washington, DC 20410. Written requests must include the full name, current address, and telephone number of the individual making the request, as well as proof of identity, including a description of the requester's relationship to the information in question.

CONTESTING RECORD PROCEDURES:

The procedures for contesting the contents of records and appealing initial denials appear in 24 CFR part 16—Implementation of the Privacy Act of 1974. If additional information or assistance is required, contact:

(i) In relation to contesting contents of records, the Privacy Act Officer at HUD, 451 Seventh Street SW., Room 4178 (Attention: Capitol View Building, 4th Floor), Washington, DC 20410; or

(ii) The Departmental Privacy Appeals Officer, Office of General Counsel, Department of Housing and Urban Development, 451 Seventh Street SW., Washington, DC, 20410, for appeals of initial denials.

RECORD SOURCE CATEGORIES:

Basic participant information was initially transmitted electronically to the TAAG system through an upload from the HUD Disaster Information System in December 2007. Housing assistance information about program participants was uploaded to TAAG on a weekly basis from December 2007 until February 2009.

EXEMPTIONS FROM CERTAIN PROVISIONS OF THE ACT:

None.

SYSTEM OF RECORDS NO.:

PIH-REAC/PE.02

SYSTEM NAME:

Efforts to Outcome Case Management Tracking System for DHAP-Ike.

SYSTEM LOCATION:

Department of Housing and Urban Development, 451 Seventh Street SW., Washington, DC 20410.

CATEGORIES OF INDIVIDUALS COVERED BY THE SYSTEM:

DHAP- Ike participants displaced by hurricanes Gustav and Ike. All family members who were deemed eligible to participate in the DHAP- Ike program by the Federal Emergency Management Agency (FEMA).

CATEGORIES OF RECORDS IN THE SYSTEM:

Files contain identifying information about program participants and their household members at program implementation including: name, social security number, FEMA ID number of the eligible head of household member, birth date, current telephone number and current address. The files hold sensitive information about education level, race/ethnicity, gender/sex, employment and training needs, elderly and disabled status, social service needs and service referrals. Information regarding education level, criminal records, income/financial data, employment and training, disability status, medical history information, and social service needs as information that were used to assess any barriers to permanent housing attainment and/or increased self-sufficiency.

AUTHORITY FOR MAINTENANCE OF THE SYSTEM:

Legal authority for DHAP is based on the Department of Homeland Security's general grant authority under section 102(b)(2) of the Homeland Security Act, 6 U.S.C. 112, and sections 408(b)(1), 426 and 306(a) of the Robert T. Stafford Disaster Relief and Emergency Assistance Act (Stafford Act), 42 U.S.C.5174(b)(1), § 5189d and § 5149(a), and HUD's 2009 Appropriations Act modified Section 904 of the Stewart B. McKinney Act of 1988, as amended, to include Disaster Housing Assistance Program Ike (DHAP-Ike) as a “program” of HUD, respectively.

PURPOSES:

ETO captured pertinent data relating to family self-sufficiency, permanent housing status and service needs. The data for ETO was collected to support DHAP-Ike grantees in their case management efforts and HUD staff in their program monitoring activities and providing required reports to FEMA in fulfillment of its responsibilities outlined within the Inter Agency Agreement (IAA). The case manager used this information to identify appropriate service referrals, to help prepare clients for the end of DHAP- Ike case management which occurred on September 30, 2011. As such, the DHAP-Ike still requires further analysis and evaluation by the Department's Office of Policy Development and Research (PD&R), Program Management and Research Division to allow research and evaluation of the national program outcomes. In such cases, PD&R and its approved researchers will further evaluate the data presented by DHAP- Ike to produce research reports. These reports will include aggregate level data based on higher level demographic variables that will not disclose information that can be used to identify any individual represented in the data retained by HUD. The records stored hold pertinent data records relating to family self-sufficiency, permanent housing status and service needs. The system was procured through contract number: C-DEN-02332 which allowed grantees to implement and report case management services for FEMA's DHAP- Ike program, for which HUD was the servicing agent. The system and data input by grantees assisted with the administration of rental housing assistance and case management services to individuals and families whose residences were rendered uninhabitable as a result of Hurricanes Gustav and Ike. The data stored in this system of record may be used for research and statistical purposes. In such cases, data presented in any research report will be aggregated to a level that does not disclose information that can be used to identify any individual represented in the system.

ROUTINE USES OF RECORDS MAINTAINED IN THE SYSTEM, INCLUDING CATEGORIES OF USERS AND THE PURPOSES OF SUCH USES:

In addition to those disclosures generally permitted under 5 U.S.C. 552a(b) of the Privacy Act, HUD may disclose information contained in this system of records without the consent of the subject individual if the disclosure is compatible with the purpose for which the record was collected under the following routine use:

1. To contractors, grantees, experts, consultants, Federal agencies, and non-Federal entities including but not limited to state and local governments, and other research institutions or their parties entities and their agents with whom HUD has a contract, service agreement, grant, cooperative agreement with HUD, when necessary to accomplish an agency function related to a system of records for the purposes of statistical analysis and research in support of program operations, management, performance monitoring, evaluation, risk management, and policy development, or to otherwise support the Department's mission. Records under this routine use may not be used in whole or in part to make decisions that affect the rights, benefits or privileges of specific individuals. The results of the matched information may not be disclosed in identifiable form. Any data presented will be provided at the aggregate level.

POLICIES AND PRACTICES FOR STORING, RETRIEVING, ACCESSING, RETAINING, AND DISPOSING OF RECORDS IN THE SYSTEM:

STORAGE:

Records are stored on an individual hard drive. At the HUD level, no manual records are retained. At the grantee level, hard copy files are locked, secured, and reviewed at the PHA by limited agency staff.

RETRIEVABILITY:

Records are retrieved by PHA name, participant name, Social Security Number, FEMA Number, city, zip code, or general demographic characteristics. However, the general search method is by last name. The data is located on an individual hard drive that resides in a locked cabinet, within a locked office. In order to access the data, an employee must retrieve the hard drive from its locked location and attach the drive to a computer via a USB port. The files on the hard drive must be opened in an Excel Spreadsheet or SQL Server database.

SAFEGUARDS:

Data is housed on an individual hard drive located within a locked cabinet that resides in a locked office. In order to review the data, the hard drive must be attached to a computer. Access to data records are limited to agency staff who work with the data. Hard copy files are also retained by grantees are stored by PHA in locations that are locked and secured, with access granted only to a limited number of authorized grantee users in accordance with HUD's approved retention schedule.

RETENTION AND DISPOSAL:

Data are archived and stored via hard drive. Records will be retained and disposed of in accordance with the General Records Schedule included in HUD Handbook 2228.2, appendix 14, items 21-26 and HUD Record Schedule 8: Departmental Grant Financial Assistance Records. System records are retained and disposed of in accordance with the HUD Record Schedule 8. Records will be retired to record center within a sufficient amount of time as appropriate to meet program business needs. Inactive records shall be retained for a minimum of six years, and then destroyed (shredded or burned) at the end of their retention schedule of lifecycle) when no longer needed for reference or 20 years after cutoff, whichever is sooner. (NARA Job No. NI-207-04-3, item Sb).

SYSTEM MANAGER(S) AND ADDRESS:

Iyabo Morrison, Public and Indian Housing, Office of Public Housing and Voucher Programs, Department of Housing and Urban Development, 451 Seventh Street SW., Room 4232, Washington, DC 20410.

NOTIFICATION AND RECORDS ACCESS PROCEDURES:

The Department's rules for providing access to records to the individual concerned are in accordance with 24 CFR part 16—Implementation of the Privacy Act of 1974. Individuals seeking information, assistance, or inquiry about the existence of records should contact the Departmental Privacy Act Officer, Department of Housing and Urban Development, 451 Seventh Street SW., Room 2256, Washington, DC 20410. Written requests must include the full name, current address, and telephone number of the individual making the request, as well as proof of identity, including a description of the requester's relationship to the information in question.

CONTESTING RECORDS PROCEDURES:

The procedures for contesting the contents of records and appealing initial denials appear in 24 CFR part 16—Implementation of the Privacy Act of 1974. If additional information or assistance is required, contact:

(i) In relation to contesting contents of records, the Privacy Act Officer at HUD, 451 Seventh Street SW., Room 4178 (Attention: Capitol View Building, 4th Floor), Washington, DC 20410; or

(ii) The Departmental Privacy Appeals Officer, Office of General Counsel, Department of Housing and Urban Development, 451 Seventh Street SW., Washington, DC 20410, for appeals of initial denials.

RECORD SOURCE CATEGORIES:

Basic participant information was initially transmitted electronically to the ETO system through an upload from the HUD Disaster Information System in November 2008. Housing rental assistance information about program participants was uploaded to ETO on a weekly basis from November 2008 until September 2011.

EXEMPTION(S):

None.

[FR Doc. 2013-02672 Filed 2-5-13; 8:45 am]

BILLING CODE 4210-67-P